DEPARTMENT OF THE INTERIOR

Fish and Wildlife Service

50 CFR Parts 10, 17, and 21

[Docket No. FWS-HQ-MB-2022-0036; FXMB12320900000//234//FF09M30000]

RIN 1018-BG04

General Provisions; Revised List of Migratory Birds

AGENCY: Fish and Wildlife Service, Interior.

ACTION: Final rule.

SUMMARY: We, the U.S. Fish and Wildlife Service (Service), revise the List of Birds protected by the Migratory Bird Treaty Act (MBTA) by both adding and removing species and changing names to conform to accepted use by the scientific community. Reasons for the changes to the list include adding species based on new taxonomy and new evidence of natural occurrence in the United States or U.S. territories, removing species no longer known to occur within the United States or U.S. territories, and changing names to reflect currently accepted taxonomy and nomenclature. The net increase of 13 species (16 added and 3 removed) brings the total number of species protected by the MBTA to 1,106. We also revise the scientific name of a species subject to specific migratory-bird-permit regulations and revise corresponding entries for several migratory bird species that are also listed on the List of Endangered and Threatened Wildlife under the Endangered Species Act to reflect currently accepted taxonomy and nomenclature. We are taking this action because an accurate and up-to-date list of species protected by the MBTA is essential for public-notification, regulatory, and law-enforcement purposes and to ensure consistency in the use of common and scientific names across Service regulations.

DATES: This rule is effective August 30, 2023.

FOR FURTHER INFORMATION CONTACT: Eric L. Kershner, Chief, Division of Bird Conservation, Permits, and Regulations; Migratory Bird Program; U.S. Fish and Wildlife Service; MS: MB; 5275 Leesburg Pike, Falls Church, VA 22041-3803; (703) 358-2376; or Elizabeth Maclin, Chief, Division of Restoration and Recovery; Ecological Services; U.S. Fish and Wildlife Service; MS: ES; 5275 Leesburg Pike, Falls Church, VA 22041-3803; (703) 358-2646. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. List of Migratory Birds (50 CFR 10.13)

Statutory Authority of the Service for Maintaining and Revising the List of Birds Protected by the MBTA

The Service (as delegated by the Secretary) has the statutory authority and responsibility for implementing and enforcing the MBTA (16 U.S.C. 703-712), the Fish and Wildlife Improvement Act of 1978 (Pub. L. 95-616; 16 U.S.C. 742l), and the Fish and Wildlife Act of 1956 (16 U.S.C. 742a-742j, not including 742d-1). The MBTA implements conventions (bilateral treaties) between the United States and four neighboring countries for the protection of migratory birds, as follows:

(1) Canada: Convention between the United States and Great Britain [on behalf of Canada] for the Protection of Migratory Birds, August 16, 1916, 39 Stat. 1702 (T.S. No. 628), as amended by Protocol between the Government of the United States and the Government of Canada Amending the 1916 Convention between the United Kingdom and the United States of America for the Protection of Migratory Birds, Sen. Treaty Doc. 104-28 (December 14, 1995);

(2) Mexico: Convention between the United States and Mexico for the Protection of Migratory Birds and Game Mammals, February 7, 1936, 50 Stat. 1311 (T.S. No. 912), as amended March 10, 1972 (23 U.S.T. 260; T.I.A.S. 7302), and by Protocol with Mexico amending Convention for Protection of Migratory Birds and Game Mammals, Sen. Treaty Doc. 105-26 (May 5, 1997);

(3) Japan: Convention between the Government of the United States of America and the Government of Japan for the Protection of Migratory Birds and Birds in Danger of Extinction, and Their Environment, March 4, 1972, 25 U.S.T. 3329 (T.I.A.S. No. 7990); and

(4) Russia: Convention between the United States of America and the Union of Soviet Socialist Republics Concerning the Conservation of Migratory Birds and Their Environment (Russia), November 19, 1976, 29 U.S.T. 4647 (T.I.A.S. No. 9073).

What is the purpose of this rulemaking?

Our purpose is to inform the public of updates to the list of species protected by the MBTA and its implementing regulations. These regulations are found in title 50 of the Code of Federal Regulations (CFR) at parts 10, 20, 21, and 92. We regulate the taking, possession, transportation, sale, purchase, barter, exportation, and importation of birds protected by the MBTA. An accurate and up-to-date list of species protected by the MBTA is essential for notifying the public and other Federal, State, and Tribal agencies of which species are subject to regulatory protections.

Why is this amendment of the list of birds protected by the MBTA necessary?

The amendments we are adopting in this final rule are needed to:

(1) Add 11 species based on new distributional records documenting their natural occurrence in the United States or U.S. territories since 2019;

(2) Add five species newly recognized as a result of recent taxonomic changes;

(3) Remove three species not known to occur within the boundaries of the United States or U.S. territories as a result of recent taxonomic changes;

(4) Change the common (English) names of eight species to conform to accepted use; and

(5) Change the scientific names of 22 species to conform to accepted use.

The List of Birds Protected by the MBTA (50 CFR 10.13) was last revised on April 16, 2020 (85 FR 21282). The amendments in this rule were necessitated by three published supplements and one published addendum to a supplement to the 7th (1998) edition of the American Ornithologists' Union (AOU, now recognized as the American Ornithological Society (AOS)) Checklist of North American Birds (AOS 2020a, 2020b, 2021, and 2022) and the 2016, 2019, and 2021 publications of the Clements Checklist of Birds of the World (Clements et al. 2016, 2019, 2021).

What scientific authorities are used to amend the list of birds protected by the MBTA?

Although bird names (common and scientific) are relatively stable, staying current with standardized use is necessary to avoid confusion in communications. In making our determinations, we primarily relied on the AOS's Checklist of North American birds (AOU 1998), as amended annually (AOS 2020a, 2020b, 2021, and 2022), on matters of taxonomy, nomenclature, and the sequence of species and other higher taxonomic categories (Orders, Families, Subfamilies) for species that occur in North America. The AOS Checklist of North American Birds (Checklist), developed by the AOS Committee on Classification and Nomenclature, has been the recognized taxonomic authority for North American birds since publication of the first edition of the Checklist in 1886. The committee compiles the taxonomic foundation for ornithology in North America; they evaluate and publish the latest scientific developments in the systematics, classification, nomenclature, and distribution of North American birds. Thus, the AOS's Checklist represents the best scientific information available for developing the North American component of this List of Birds Protected by the MBTA. In keeping with the increasing numbers of study areas on which taxonomy relies, the committee incorporates expertise in phylogenetics, genomics, vocalizations, morphology, behavior, and geographical distribution, as well as general ornithological knowledge. The AOS Checklist contains all bird species that have occurred in North America from the Arctic through Panama, including the West Indies and the Hawaiian Islands, and includes distributional information for each species, which specifies whether the species is known to occur in the United States. The committee also keeps and updates a list of species known to occur in the United States.

For the species that occur in the U.S. territories outside the geographic area covered by the AOS Checklist, we relied primarily on the Clements Checklist of Birds of the World (Clements Checklist) (Clements et al. 2007), the Clements Checklist 2016, 2019, and 2021 installment of updates and corrections (Clements et al. 2016, 2019, 2021), and other peer-reviewed literature where appropriate. The Clements Checklist is a list of all known bird species in the world and is maintained and updated annually by the Cornell Laboratory of Ornithology (CLO). The CLO relies on different regional ornithological authorities to compile the Clements Checklist, using the AOS for the western hemisphere. Taxonomy and nomenclature are the primary focus of the Clements Checklist. Range descriptions are maintained and updated based on the best available information but do not include records of vagrancy.

Although we primarily rely on the above sources, when informed taxonomic opinion is inconsistent or controversial, we evaluate available published and unpublished information and come to our own conclusion regarding the validity of taxa and whether to include taxonomic changes. We also evaluate available documentation for new species documented to occur naturally in the United States or U.S. territories and come to our own conclusion regarding whether to add those species to the List of Birds Protected by the MBTA.

For this update, we reviewed 13 species that were added to the AOS Checklist based on new natural distribution in the United States or U.S. territories (AOS 2020a, 2021, and 2022). Based on the available evidence and criteria to identify individual species that qualify for protection by the MBTA (see below), we add 11 of those 13 species. We elected not to add 2 of the 13 species, Red-backed Shrike, Lanius collurio, and Graylag Goose, Anser anser.

When we reviewed the evidence for the record of Red-backed Shrike that was accepted by the AOS, along with an analysis from an AOS committee member, we learned the shrike in question was a juvenile. The best current information does not reliably demonstrate how juveniles of Red-backed Shrike can be distinguished from juvenile Red-tailed Shrikes, Lanius phoenicuroides, and the two species are also known to commonly hybridize. While there are descriptions available in the literature of adult hybrids of these two shrike species, this is not the case for juvenile hybrids. Therefore, due to the challenges in identification, we decided not to include this record at this time. We may revisit this decision to exclude the Red-backed Shrike in a subsequent update to the list if a reliable method of distinguishing juveniles and hybrid juveniles of the two species is devised.

Regarding the Graylag Goose, we considered the regulatory implications of adding it to the list because the species intermixes with other goose species that may be hunted under the Service's and State hunting regulations. We decided not to add the species at this time while we consider those regulatory implications, similar to how we treated the split of Cackling Goose, Branta hutchinsii, from Canada Goose, Branta canadensis, in 2013 (78 FR 65844; November 1, 2013), later adding the species to the 50 CFR 10.13 list in 2020 (85 FR 21282; April 16, 2020). We may reconsider adding this species in a subsequent update to the list once the frequency of the species occurring in the United States is better understood and what the implications to hunting regulations in 50 CFR part 20 would be. We reserve the right to revisit these decisions if additional information becomes available.

As is customary with species subject to our hunting regulations at 50 CFR part 20, we consulted with the Pacific, Central, Mississippi, and Atlantic Flyway Councils in our review of the taxonomic split of Mexican Duck from Mallard. We also reviewed published scientific literature regarding the Mallard split (Bellrose 1976; Hubbard 1977; Brown 1985; Lavretsky et al. 2015, 2019; AOS 2020a). Ultimately, we concluded to add Mexican Duck to the list.

What criteria are used to identify individual species protected by the MBTA?

A species qualifies for protection under the MBTA by meeting one or more of the following criteria:

(1) It occurs in the United States or U.S. territories as the result of natural biological or ecological processes and is currently, or was previously listed as, a species or a member of a family protected by one of the four international treaties or their amendments. A naturally occurring species is protected by the MBTA as a member of a protected family even if the species is ecologically nonmigratory, meaning it does not exhibit seasonal movements (also known as a resident species). For example, the Bushtit (Psaltriparus minimus) is a resident, nonmigratory species and is included in 50 CFR 10.13 because it occurs in a family (Aegithalidae) that is protected by the bilateral treaty with Canada. Any species that occurs in the United States or U.S. territories solely as a result of intentional or unintentional human-assisted introduction does not qualify for the MBTA list, regardless of whether the family the species belongs to is listed in any of the treaties, unless:

• It was either native to the United States or its territories and extant in 1918; or

• It was extirpated after 1918 throughout its range in the United States and its territories, and, after such extirpation, it was reintroduced in the United States or its territories as part of a program carried out by a Federal agency.

(2) Revised taxonomy results in it being newly split from a species that was previously on the list, and the new species occurs in the United States or U.S. territories as the result of natural biological or ecological processes. If a newly recognized native species is considered extinct (following the classification of the American Ornithological Society (AOS) or, for species not covered by the AOS, the Clements Checklist or peer-reviewed literature), that species will still be included if either of the following criteria apply:

• The species resembles extant species included in the list that may be affected by trade or other commercial activities if the species is not included; or

• Not including the species may create difficulties implementing the MBTA and its underlying conventions.

(3) New evidence exists for its natural occurrence in the United States or U.S. territories resulting from new or natural distributional changes and the species belongs to a protected family. Records must be documented, accepted, and published by the AOS committee. For the U.S. Pacific territories that fall outside the geographic scope of the AOS and for which there is no identified ornithological authority, new evidence of a species' natural occurrence will be based on the Clements Checklist and then published peer-reviewed literature, in that order. Records and the evidence supporting their acceptance by the AOS, Clements Checklist, or peer-reviewed literature are reviewed independently by the Service before we propose adding the species to the list.

In accordance with the Migratory Bird Treaty Reform Act of 2004 (MBTRA) (Pub. L. 108-447, December 8, 2004, 118 Stat. 2809, 3071-72), we only include migratory bird species that are native to the United States or U.S. territories. A native migratory bird species is one that is present as a result of natural biological or ecological processes. The list at 50 CFR 10.13 does not include nonnative species that occur in the United States or U.S. territories solely as a result of intentional or unintentional human-assisted introduction(s). An amended list of the nonnative bird species that have been introduced by humans into the United States or U.S. territories and to which the MBTA does not apply was published in the Federal Register on April 16, 2020 (85 FR 21262), with a correction published on May 3, 2021 (86 FR 23422).

What species are not protected by the Migratory Bird Treaty Act?

The MBTA does not apply to:

(1) Nonnative species introduced into the United States or U.S. territories by means of intentional or unintentional human assistance that belong to families or groups covered by the Canadian, Mexican, or Russian Conventions. Note, though, that native species that are introduced into parts of the United States where they are not native are still protected under the MBTA regardless of where they occur in the United States or U.S. territories.

(2) Species native or nonnative to the United States or U.S. territories that either belong to families or groups not referred to in the Canada, Mexico, and Russia Conventions or are not included by species name in the Japan Convention. This includes the Tinamidae (tinamous), Megapodiidae (megapodes), Cracidae (chachalacas), Odontophoridae (New World quail), Phasianidae (grouse, ptarmigan, and turkeys), Pteroclidae (sandgrouse), Heliornithidae (finfoots), Burhinidae (thick-knees), Glareolidae (pratincoles), Todidae (todies), Psittacidae (parrots), Psittaculidae (Old World parrots), Meliphagidae (honeyeaters), Dicruridae (drongos), Monarchidae (monarchs), Pycnonotidae (bulbuls), Scotocercidae (bush warblers and allies), Zosteropidae (white-eyes), Sturnidae (starlings, except as listed in Japanese treaty), Ploceidae (weavers), Estrildidae (estrildid finches), and Passeridae (Old World sparrows, including house or English sparrow), as well as numerous other families not represented in the United States or U.S. territories.

How do the changes affect the list of birds protected by the MBTA?

The amendments (16 additions, 3 removals, and 30 name changes) affect a total of 47 species and result in a net addition of 13 species to the List of Migratory Birds Protected by the MBTA, increasing the number of species on the list from 1,093 to 1,106. Five of the 16 added species are new species that have been recognized as a result of a taxonomic split and occur in the United States or U.S. territories and were previously covered under the MBTA as members of listed species (conspecific). These amendments can be logically arranged in the following five categories:

(1) Add 11 species based on review and acceptance by the AOS (since 2019), or by other appropriate ornithological authorities, and the Service of new distributional records documenting their occurrence in the United States or U.S. territories. These species belong to families covered by at least one of the four international conventions, and all are considered to be of accidental or casual occurrence. For each species, we list the State or U.S. territory in which it has been recorded plus the relevant publication:

Chestnut-winged Cuckoo, Clamator coromandus—Guam (Kastner et al., 2018);

Dark-billed Cuckoo, Coccyzus melacoryphus—Texas and Florida (AOS 2020a);

Hooded Crane, Grus monacha—Alaska (AOS 2022);

Northern Giant-Petrel, Macronectes halli—Washington (AOS 2022);

Long-legged Buzzard, Buteo rufinus—Alaska (AOS 2020a);

Pallas's Gull, Ichthyaetus ichthyaetus—Alaska (AOS 2021);

Inca Tern, Larosterna inca—Hawaii (AOS 2022);

Small-billed Elaenia, Elaenia parvirostris—Illinois (AOS 2022);

Pallas's Grasshopper Warbler, Helopsaltes certhiola—Alaska (AOS 2021);

Blue-and-white Swallow, Pygochelidon cyanoleuca—Texas (AOS 2022); and

Naumann's Thrush, Turdus naumanni—Alaska (AOS 2022).

(2) Add five species because of recent taxonomic changes in which taxa formerly treated as conspecific have been determined to be distinct species (i.e., a taxonomic split). Given that each of these species was formerly treated as conspecific with a listed species, these additions would not change the protective status of any of these taxa, only the names by which they are known. In each case, we reference the AOS or relevant publication supporting the change:

Mexican Duck, Anas diazi—formerly considered conspecific with Mallard, Anas platyrhynchos (AOS 2020a);

Short-billed Gull, Larus brachyrhynchus—formerly named Mew Gull and considered conspecific with Larus canus, which now has the English name of Common Gull and remains on the list based on prior occurrences of the Common Gull taxon in the United States (AOS 2021);

Puerto Rican Mango, Anthracothorax aurulentus—formerly considered conspecific with Antillean Mango, Anthracothorax dominicus (AOS 2022);

Asian Stonechat, Saxicola maurus—formerly considered conspecific with Stonechat, Saxicola torquatus (AOS 2022); and

Chihuahuan Meadowlark, Sturnella lilianae—formerly considered conspecific with Eastern Meadowlark, Sturnella manga (AOS 2022).

(3) Remove three species based on revised taxonomic treatments, either because a species is taxonomically merged with another species, either on or off the list; a species previously on the list is taxonomically split into multiple species and the new species is not known to occur within the United States or U.S. territories; or the species is considered extinct (following the classification of the AOS or, for species not covered by the AOS, the Clements Checklist or peer-reviewed literature) unless any of the following criteria apply: It is protected under the Endangered Species Act of 1973, as amended (ESA; 16 U.S.C. 1531 et seq.), or the Convention on International Trade in Endangered Species of Wild Fauna and Flora (CITES; 27 U.S.T. 1087); it resembles extant species included in the list that may be affected by its removal; or its removal would create difficulties implementing the MBTA and its underlying Conventions. In each case, we reference the publication supporting these changes:

Northwestern Crow, Corvus caurinus, is combined with American Crow, Corvus brachyrhynchos (AOS 2020a);

Antillean Mango, Anthracothorax dominicus (AOS 2022); and

Stonechat, Saxicola torquatus (AOS 2022).

(4) Revise the common (English) names of eight species to conform to the most recent nomenclatural treatment as described in AOS publications 2020a, 2020b, and 2021 and Clements et al. 2011, 2019, and 2021. These revisions do not change the protective status of any of these taxa, only the names by which they are known. In each case, the update is described in the table below.

(5) Revise the scientific names of 22 species to conform to the most recent nomenclatural treatment as described in AOS publications 2020a and 2021 and Clements et al. 2016 and 2021. These revisions do not change the protective status of any of these taxa, only the names by which they are known. In each case, the update is described in the table, below.

Table of Name Changes, as Described in Categories 4 and 5, Above
[The table is organized following AOS (2021) taxonomic order. The relevant AOS or Clements publication is provided.]
Publication source and year | Previous common name | Current common name
Clements et al. 2019 | Shy Ground-Dove, Alopecoenas stairi | Shy Ground Dove, Alopecoenas stairi.
Clements et al. 2019 | White-throated Ground-Dove, Alopecoenas xanthonurus | White-throated Ground Dove, Alopecoenas xanthonurus.
Clements et al. 2011 | Common Moorhen, Gallinula chloropus | Eurasian Moorhen, Gallinula chloropus.
AOS 2021 | Mew Gull, Larus canus | Common Gull, Larus canus.
Clements et al. 2021 | Rufous Night-Heron, Nycticorax caledonicus | Nankeen Night-Heron, Nycticorax caledonicus.
AOS 2020b | McCown's Longspur, Rhynchophanes mccownii | Thick-billed Longspur, Rhynchophanes mccownii.
Publication source and year | Previous scientific name | Current scientific name
AOS 2020a | Bumblebee Hummingbird, Atthis heloisa | Bumblebee Hummingbird, Selasphorus heloisa.
AOS 2020a | Puerto Rican Emerald, Chlorostilbon maugaeus | Puerto Rican Emerald, Riccordia maugaeus.
AOS 2020a | White-eared Hummingbird, Hylocharis leucotis | White-eared Hummingbird, Basilinna leucotis.
AOS 2020a | Xantus's Hummingbird, Hylocharis xantusii | Xantus's Hummingbird, Basilinna xantusii.
AOS 2022 | Violet-crowned Hummingbird, Amazilia violiceps | Violet-crowned Hummingbird, Ramosomyia violiceps.
AOS 2020a | Berylline Hummingbird, Amazilia beryllina | Berylline Hummingbird, Saucerottia beryllina.
Clements et al. 2021 | Matsudaira's Storm-Petrel, Oceanodroma matsudairae | Matsudaira's Storm-Petrel, Hydrobates matsudairae.
Clements et al. 2016 | Little Pied Cormorant, Phalacrocorax melanoleucos | Little Pied Cormorant, Microcarbo melanoleucos.
AOS 2021 | Brandt's Cormorant, Phalacrocorax penicillatus | Brandt's Cormorant, Urile penicillatus.
AOS 2021 | Red-faced Cormorant, Phalacrocorax urile | Red-faced Cormorant, Urile urile.
AOS 2021 | Pelagic Cormorant, Phalacrocorax pelagicus | Pelagic Cormorant, Urile pelagicus.
AOS 2021 | Double-crested Cormorant, Phalacrocorax auritus | Double-crested Cormorant, Nannopterum auritum.
AOS 2021 | Neotropic Cormorant, Phalacrocorax brasilianus | Neotropic Cormorant, Nannopterum brasilianum.
AOS 2022 | Mottled Owl, Ciccaba virgata | Mottled Owl, Strix virgata.
AOS 2021 | Crested Caracara, Caracara cheriway | Crested Caracara, Caracara plancus.
AOS 2021 | Ruby-crowned Kinglet, Regulus calendula | Ruby-crowned Kinglet, Corthylio calendula.
AOS 2021 | Sedge Wren, Cistothorus platensis | Sedge Wren, Cistothorus stellaris.
AOS 2020a | Dusky Thrush, Turdus naumanni | Dusky Thrush, Turdus eunomus.
AOS 2021 | Antillean Euphonia, Euphonia musica | Antillean Euphonia, Chlorophonia musica.
AOS 2021 | Five-striped Sparrow, Amphispiza quinquestriata | Five-striped Sparrow, Amphispizopsis quinquestriata.
Publication source and year | Previous common and scientific name | Current common and scientific name
AOS 2020a | Puerto Rican Screech-Owl, Megascops nudipes | Puerto Rican Owl, Gymnasio nudipes.
AOS 2020a, AOS 2021 | Middendorff 's Grasshopper-Warbler, Locustella ochotensis | Middendorff's Grasshopper Warbler, Helopsaltes ochotensis.

How is the list of birds protected by the MBTA organized?

The species are listed in two formats to suit the needs of different segments of the public: alphabetically in 50 CFR 10.13(c)(1) and taxonomically in 50 CFR 10.13(c)(2). In the alphabetical listing, species are listed by common (English) group names, with the scientific name of each species following the English group name. This format is most useful to members of the lay public. In the taxonomic listing, species are listed in phylogenetic sequence by scientific name, with the English name following the scientific name. To help clarify species relationships, we also list the higher-level taxonomic categories of Order, Family, and Subfamily. This format follows the sequence adopted by the AOS (1998, 2021) and is most useful to ornithologists and other scientists.

In this rule, we present a new table format for the alphabetical and taxonomic listings at 50 CFR 10.13(c)(1) and (c)(2), respectively. We made this change in presenting these listings to conform to the Office of the Federal Register's formatting standards and to make information on the lists clearer and easier to locate. For clarity, we also added a new section heading for 50 CFR 10.13: rather than the current “List of Migratory Birds,” we title this section of the regulations, “List of Birds Protected by the Migratory Bird Treaty Act.”

II. Special Double-Crested Cormorant Permit (50 CFR 21.123)

Because we are revising the scientific name for the Double-crested Cormorant on the List of Birds Protected by the MBTA at 50 CFR 10.13, as described above, we also revise the scientific name for that species (Nannopterum auritum) in our special permit regulations related to that species at 50 CFR 21.123. This is purely an administrative action that does not amend the purpose of, eligibility for, application procedures for, conditions of, information-collection requirements associated with, or any other regulatory provisions associated with that permit.

III. List of Endangered and Threatened Wildlife (50 CFR 17.11(h))

We also revise the corresponding entries on the List of Endangered and Threatened Wildlife of several migratory bird species that are also listed as endangered or threatened species under the ESA to reflect the currently accepted taxonomy and nomenclature. These revisions ensure consistency in the use of common and scientific names across Service regulations. Some ESA-listed migratory bird species' names are not included in this rule because they are being corrected in other documents that have published, or will publish, in the Federal Register.

Background

The List of Endangered and Threatened Wildlife and the List of Endangered and Threatened Plants (“the ESA Lists”), set forth in title 50 of the CFR at §§ 17.11 and 17.12, respectively, contain the names of endangered species and threatened species federally listed pursuant to the ESA.

The regulations at 50 CFR 17.11(c) and 17.12(b) direct us to use the most recently accepted scientific name of any wildlife or plant species that we have determined to be an endangered or threatened species.

Purpose

We revise the ESA List at 50 CFR 17.11(h) to reflect the scientifically accepted taxonomy and nomenclature of nine bird species listed under section 4 of the ESA. These revisions reflect the most recently accepted scientific nomenclature in accordance with 50 CFR 17.11(c).

None of the taxonomic changes to migratory bird species listed as endangered or threatened species under the ESA are regulatory in nature; they are for accuracy and clarity. These revisions do not alter species' protections or status under either the MBTA or ESA in any way. Any actions altering a species' protection or status would require a separate rulemaking action following the procedures of 50 CFR part 424.

Taxonomic Changes to the List of Endangered and Threatened Wildlife

The table below lists the taxonomic changes that reflect the revised taxonomy and nomenclature for nine bird species listed under section 4 of the ESA. These changes reflect the most recently accepted scientific nomenclature in accordance with 50 CFR 17.11(c).

Table of Taxonomic Revisions to the ESA List at § 17.11(h) Reflecting the Current Scientifically Accepted Taxonomy and Nomenclature for These Species
Species name as currently listed | Corrected species name
Caracara, crested, (Audubon's) [FL DPS] (Polyborus plancus audubonii) | Caracara, crested, (Audubon's) [FL DPS] (Caracara plancus audubonii).
Crane, Mississippi sandhill (Grus canadensis pulla) | Crane, Mississippi sandhill (Antigone canadensis pulla).
Nightjar, Puerto Rican (Caprimulgus noctitherus) | Nightjar, Puerto Rican (Antrostomus noctitherus).
Pigeon, Puerto Rican plain (Columba inornata wetmorei) | Pigeon, Puerto Rican plain (Patagioenas inornata wetmorei).
Rail, California clapper (Rallus longirostris obsoletus) | Rail, California Ridgway's (Rallus obsoletus obsoletus).
Rail, light-footed clapper (Rallus longirostris levipes) | Rail, light-footed Ridgway's (Rallus obsoletus levipes).
Sparrow, Cape Sable seaside (Ammodramus maritimus mirabilis) | Sparrow, Cape Sable seaside (Ammospiza maritima mirabilis).
Tern, California least (Sterna antillarum browni) | Tern, California least (Sternula antillarum browni).
Towhee, Inyo California (Pipilo crissalis eremophilus) | Towhee, Inyo California (Melozone crissalis eremophilus).

Using the best available scientific information, this rule documents taxonomic changes of the scientific names for nine birds in their entries on the ESA List. To the extent practicable, the Service relies on the Integrated Taxonomic Information System (ITIS) to determine a species' scientific name for inclusion on the List. ITIS incorporates the naming principles established by the International Code of Zoological Nomenclature, produced by the International Commission on Zoological Nomenclature, an organization that provides and regulates a uniform system of zoological nomenclature. While ITIS is a reliable database source of taxonomic information, ITIS is incomplete and does not yet reflect the most recently accepted scientific names for some species. As noted above, the scientific names for the nine listed bird species are supported by AOS's Checklist of North American birds (AOU 1998), as amended annually (AOU 2006, 2010, 2012, 2014, 2016; AOS 2018, 2020a, 2020b, and 2021). The Service finds that the scientific and common names should be recognized as presented in the table above. Accordingly, we revise the scientific names of these species under section 4 of the ESA and in accordance with 50 CFR 17.11(c).

Of the nine species that are subject to the taxonomic revisions of the ESA List in this rule, three have designated critical habitat. For clarity and consistency, we revise the headings of the critical habitat designations at 50 CFR 17.95(b) to reflect the corrected scientific names for the following species: Mississippi sandhill crane, Cape Sable seaside sparrow, and Inyo California towhee.

These changes do not affect the range or endangered or threatened status for any of these nine listed migratory bird species, or any designated critical habitat.

IV. Summary of Comments and Responses

On December 12, 2022, we published in the Federal Register (87 FR 75977) a proposed rule to revise the list of migratory birds at 50 CFR 10.13; we accepted public comments on the proposed rule for 60 days, ending February 10, 2023. We received seven comments in response to the proposed rule; five were from private individuals, one was from a State Game and Fish Department, and one was from an organization. Several comments supported the changes we proposed. The following text discusses the substantive comments we received by topic and provides our responses.

Comment (1): One individual requested that no species be removed from protection.

Response: As explained above, species are removed from the list of migratory birds at 50 CFR 10.13 based on revised taxonomic treatments, either because a species is taxonomically merged with another species, either on or off the list; a species previously on the list is taxonomically split into multiple species and the new species is not known to occur within the United States or U.S. territories; or the species is considered extinct (following the classification of the AOS or, for species not covered by the AOS, the Clements Checklist or peer-reviewed literature) unless any of the following criteria apply: It is protected under the Endangered Species Act of 1973, as amended (ESA; 16 U.S.C. 1531 et seq.), or the Convention on International Trade in Endangered Species of Wild Fauna and Flora (CITES; 27 U.S.T. 1087); it resembles extant species included in the list that may be affected by its removal; or its removal would create difficulties implementing the MBTA and its underlying Conventions. We are removing three species from the list that fit one or more of these criteria.

Comment (2): One individual requested that Ainley's Storm-Petrel (Hydrobates cheimomnestes) be added to the list of migratory birds at 50 CFR 10.13 because there is published evidence of its occurrence in waters off California and provided a weblink for the publication.

Response: We reviewed the published evidence for the occurrence of Ainley's Storm-Petrel. In summary, the published evidence is for a scientific study where Ainley's Storm-Petrels breeding on an islet in Mexico were tagged with Global Positioning System data loggers and the tracks of multiple birds showed birds flew into U.S. waters off the coast of southern California. As described above, we primarily rely on the expertise of the AOS Committee on Classification and Nomenclature to compile the distributional information for each species on the AOS Checklist, including whether the species is known to occur in the United States. We then evaluate available documentation for any species added based on new natural distribution in the United States and come to our own conclusion about adding it to the list. The AOS Committee has not yet published a decision on these potential occurrences of Ainley's Storm-Petrel in the United States and has not yet addressed the occurrence of any species established only by the presence of birds tagged with GPS-data loggers. We will evaluate whether to add the species to the list after the AOS Committee or other ornithological experts have assessed the evidence for occurrence of Ainley's Storm-Petrel in U.S. waters based solely on remote-sensing technology.

Comment (3): One commenter made the comment that the Service is unlawfully applying the MBTA by misinterpreting the plain language meaning of the term “occurring.”

Response: The Service's interpretation of the term “occurring” is a reasonable reading of the MBTA, which protects species “native to the United States or its territories” and defines that phrase to mean “occurring in the United States or its territories as the result of natural biological or ecological processes” (16 U.S.C. 703(b)(2)). This definition demonstrates that the word “occurring” refers to the species protected by the statute. “Species” is a collective noun that refers to a group of individual birds—in other words, a “species” occurs wherever there is an individual member of the species. Therefore, the MBTA encompasses every bird species covered by the treaties for which there has been at least one occurrence in the United States or its territories as the result of natural processes. Moreover, nothing in the statute's legislative history suggests that Congress was concerned with the number of records documenting a species' natural occurrence in the United States or U.S. territories. There is also no established or accepted scientific process to determine a species is occurring in the United States or U.S. territories based on an undefined threshold number of documented records. Thus, a single documented, reviewed, and accepted record of natural occurrence in the United States or U.S. territories is not only a reasonable threshold to qualify a species for protection under the MBTA but is the threshold compelled by the plain language of the statute.

V. Summary of Changes From the Proposed Rule

As noted above under IV. Summary of Comments and Responses, in this final rule, we do not make any substantive changes to our December 12, 2022, proposed rule (87 FR 75977) in response to comments we received during that proposal's comment period. Further, we did not receive any new information that led us to make any substantive changes to our proposed rule in this final rule. The only changes we have made to the proposed rule in this final rule are minor editorial revisions to correct spellings or to ensure clarity and consistency in the formatting and presentation of the rule.

VI. Required Determinations

Regulatory Planning and Review (Executive Orders 12866 and 13563)

Executive Order (E.O.) 12866 provides that the Office of Information and Regulatory Affairs (OIRA) in the Office of Management and Budget will review all significant rules. OIRA has determined that this rule is not significant.

Executive Order (E.O.) 14094 reaffirms the principles of E.O. 12866 and E.O 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (5 U.S.C. 804(2)), whenever an agency is required to publish a notice of rulemaking for any proposed or final rule, it must prepare and make available for public comment a regulatory flexibility analysis that describes the effect of the rule on small entities (i.e., small businesses, small organizations, and small government jurisdictions). However, no regulatory flexibility analysis is required if the head of an agency certifies the rule does not have a significant economic impact on a substantial number of small entities.

SBREFA amended the Regulatory Flexibility Act to require Federal agencies to provide the statement of the factual basis for certifying that a rule will not have a significant economic impact on a substantial number of small entities. We have examined this rule's potential effects on small entities as required by the Regulatory Flexibility Act and have determined that this action will not have a significant economic impact on a substantial number of small entities. This rule is an administrative action to update the list of migratory bird species protected under the Conventions and make certain corresponding updates on the ESA List. Because of the administrative nature of this rulemaking, the final rule will have no known economic impacts on small entities. Consequently, we certify that this rule will not have a significant economic impact on a substantial number of small entities; therefore, a regulatory flexibility analysis is not required.

Congressional Review Act

This rule is not a major rule under 5 U.S.C. 804(2), the Congressional Review Act. It will not have a significant impact on a substantial number of small entities.

a. This rule will not have an annual effect on the economy of $100 million or more.

b. This rule will not cause a major increase in costs or prices for consumers; individual industries; Federal, State, or local government agencies; or geographic regions.

c. This rule will not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule does not “significantly or uniquely” affect small governments. A small government agency plan is not required. This rule is an administrative action to update the list of migratory bird species protected under the Conventions and make certain corresponding updates on the ESA List; it does not affect small government activities in any significant way.

b. This rule does not produce a federal mandate of $100 million or greater in any year; i.e., it is not a “significant regulatory action” under the Unfunded Mandates Reform Act.

Takings

In accordance with Executive Order 12630, this rule does not have significant takings implications. This rule does not contain a provision for the taking of private property. Therefore, a takings-implication assessment is not required.

Federalism

This rule does not have sufficient Federalism effects to warrant preparation of a federalism summary impact statement under Executive Order 13132. It does not interfere with the States' ability to manage themselves or their funds. No significant economic impacts are expected to result from updating the list of migratory bird species and certain entries on the ESA List.

Civil Justice Reform

In accordance with Executive Order 12988, the Office of the Solicitor has determined that this rule does not unduly burden the judicial system and meets the requirements of sections 3(a) and 3(b)(2) of the Order.

Paperwork Reduction Act

This rule does not contain information collection requirements, and a submission to the Office of Management and Budget (OMB) under the Paperwork Reduction Act of 1995 (44 U.S.C. 3501 et seq.) is not required. We may not conduct or sponsor, and you are not required to respond to, a collection of information unless it displays a currently valid OMB control number.

National Environmental Policy Act (NEPA)

Given that the revisions in this document are strictly administrative in nature, this action is categorically excluded from further NEPA requirements (see 43 CFR 46.210(i), applying to policies, directives, regulations, and guidelines that are of an administrative, financial, legal, technical, or procedural nature).

Endangered Species Act (ESA)

Of the species on the List of Birds Protected by the Migratory Bird Treaty Act, 89 species, subspecies, or distinct population segments are also listed as endangered or threatened under section 4 of the ESA of 1973, as amended (16 U.S.C. 1531 et seq.). No legal complications arise from the dual listing as the two lists are developed under separate authorities for different purposes. Because this rule is strictly administrative in nature, it has no effect on endangered or threatened species or their designated critical habitats. Thus, it does not require consultation under section 7 of the ESA.

Government-to-Government Relationship With Tribes

In accordance with the President's memorandum of April 29, 1994, “Government-to-Government Relations with Native American tribal Governments” (59 FR 22951), Executive Order 13175, and 512 DM 2, we have evaluated potential effects on federally recognized Indian Tribes and have determined that there are no potential effects. The revisions to existing regulations in this rule are purely administrative in nature and do not interfere with or affect the Tribes' ability to manage themselves or their funds or to regulate migratory bird activities on Tribal lands.

Energy Supply, Distribution, or Use (Executive Order 13211)

On May 18, 2001, the President issued Executive Order 13211 addressing regulations that significantly affect energy supply, distribution, or use. Executive Order 13211 requires agencies to prepare Statements of Energy Effects when undertaking certain actions. Because this rule is an administrative action to update the list of migratory bird species protected under the Conventions and make certain corresponding updates on the ESA List, it is not a significant regulatory action under Executive Order 12866, and it does not significantly affect energy supplies, distribution, or use. Therefore, this action is not a significant energy action, and no Statement of Energy Effects is required.

References Cited

A complete list of all references cited is available on https://www.regulations.gov under Docket No. FWS-HQ-MB-2022-0036, and upon request (see FOR FURTHER INFORMATION CONTACT, above).

List of Subjects

CFR Part 10

Exports, Fish, Imports, Law enforcement, Plants, Transportation, Wildlife.

CFR Part 17

Endangered and threatened species, Exports, Imports, Plants, Reporting and recordkeeping requirements, Transportation, Wildlife.

CFR Part 21

Exports, Hunting, Imports, Reporting and recordkeeping requirements, Transportation, Wildlife.

Regulation Promulgation

For the reasons discussed in the preamble, we amend title 50, chapter I, subchapter B of the Code of Federal Regulations, as follows:

PART 10—GENERAL PROVISIONS

1. The authority citation for part 10 continues to read as follows:

Authority: 16 U.S.C. 668a-d, 703-712, 742a-j-l, 1361-1384, 1401-1407, 1531-1543, 3371-3378; 18 U.S.C. 42; 19 U.S.C. 1202.

2. Amend § 10.13 by revising the section heading and paragraph (c) to read as follows:

§ 10.13 List of Birds Protected by the Migratory Bird Treaty Act.

* * * * *

(c) What species are protected by the Migratory Bird Treaty Act? Species protected as migratory birds are listed in two formats to suit the varying needs of the user: Alphabetically in paragraph (c)(1) of this section and taxonomically in paragraph (c)(2) of this section. Taxonomy and nomenclature generally follow the 7th edition of the American Ornithologists' Union's (AOU, now recognized as American Ornithological Society (AOS)) Checklist of North American birds (1998, as amended through 2021). For species not treated by the AOS Checklist, we generally follow Clements Checklist of Birds of the World (Clements et al. 2007, as updated through 2021).

(1) Alphabetical listing. The table lists species alphabetically by common (English) group names, with the scientific name of each species following the common name.

Table 1 to Paragraph (c)(1)—Alphabetical Listing of Birds Protected by the Migratory Bird Treaty Act
Common name group | Species common name | Species scientific name
Accentor | Siberian Accentor | Prunella montanella.
`Akeke`e | `Akeke`e | Loxops caeruleirostris.
`Akepa | Hawaii `Akepa | Loxops coccineus.
| Maui `Akepa | Loxops ochraceus.
| O`ahu `Akepa | Loxops wolstenholmei.
`Akialoa | Kauai `Akialoa | Akialoa stejnegeri.
| Maui Nui 'Akialoa | Akialoa lanaiensis.
| O`ahu `Akialoa | Akialoa ellisiana.
`Akiapola`au | `Akiapola`au | Hemignathus wilsoni.
`Akikiki | `Akikiki | Oreomystis bairdi.
`Akohekohe | `Akohekohe | Palmeria dolei.
`Alauahio | Maui `Alauahio | Paroreomyza montana.
| O`ahu `Alauahio | Paroreomyza maculata.
Albatross | Black-browed Albatross | Thalassarche melanophris.
| Black-footed Albatross | Phoebastria nigripes.
| Chatham Albatross | Thalassarche eremita.
| Laysan Albatross | Phoebastria immutabilis.
| Light-mantled Albatross | Phoebetria palpebrata.
| Salvin's Albatross | Thalassarche salvini.
| Short-tailed Albatross | Phoebastria albatrus.
| Wandering Albatross | Diomedea exulans.
| White-capped Albatross | Thalassarche cauta.
| Yellow-nosed Albatross | Thalassarche chlororhynchos.
`Amakihi | Hawaii `Amakihi | Chlorodrepanis virens.
| Kaua`i `Amakihi | Chlorodrepanis stejnegeri.
| O`ahu `Amakihi | Chlorodrepanis flava.
Anhinga | Anhinga | Anhinga anhinga.
Ani | Groove-billed Ani | Crotophaga sulcirostris.
| Smooth-billed Ani | Crotophaga ani.
`Anianiau | `Anianiau | Magumma parva.
`Apapane | `Apapane | Himatione sanguinea.
Auklet | Cassin's Auklet | Ptychoramphus aleuticus.
| Crested Auklet | Aethia cristatella.
| Least Auklet | Aethia pusilla.
| Parakeet Auklet | Aethia psittacula.
| Rhinoceros Auklet | Cerorhinca monocerata.
| Whiskered Auklet | Aethia pygmaea.
Avocet | American Avocet | Recurvirostra americana.
Bananaquit | Bananaquit | Coereba flaveola.
Bean-Goose | Taiga Bean-Goose | Anser fabalis.
| Tundra Bean-Goose | Anser serrirostris.
Beardless-Tyrannulet | Northern Beardless-Tyrannulet | Camptostoma imberbe.
Becard | Gray-collared Becard | Pachyramphus major.
| Rose-throated Becard | Pachyramphus aglaiae.
Bittern | American Bittern | Botaurus lentiginosus.
| Black Bittern | Ixobrychus flavicollis.
| Least Bittern | Ixobrychus exilis.
| Schrenck's Bittern | Ixobrychus eurhythmus.
| Yellow Bittern | Ixobrychus sinensis.
Blackbird | Brewer's Blackbird | Euphagus cyanocephalus.
| Red-winged Blackbird | Agelaius phoeniceus.
| Rusty Blackbird | Euphagus carolinus.
| Tawny-shouldered Blackbird | Agelaius humeralis.
| Tricolored Blackbird | Agelaius tricolor.
| Yellow-headed Blackbird | Xanthocephalus xanthocephalus.
| Yellow-shouldered Blackbird | Agelaius xanthomus.
Bluebird | Eastern Bluebird | Sialia sialis.
| Mountain Bluebird | Sialia currucoides.
| Western Bluebird | Sialia mexicana.
Bluetail | Red-flanked Bluetail | Tarsiger cyanurus.
Bluethroat | Bluethroat | Cyanecula svecica.
Bobolink | Bobolink | Dolichonyx oryzivorus.
Boobook | Northern Boobook | Ninox japonica.
Booby | Abbott's Booby | Papasula abbotti.
| Blue-footed Booby | Sula nebouxii.
| Brown Booby | Sula leucogaster.
| Masked Booby | Sula dactylatra.
| Nazca Booby | Sula granti.
| Red-footed Booby | Sula sula.
Brambling | Brambling | Fringilla montifringilla.
Brant | Brant | Branta bernicla.
Bufflehead | Bufflehead | Bucephala albeola.
Bullfinch | Eurasian Bullfinch | Pyrrhula pyrrhula.
| Puerto Rican Bullfinch | Melopyrrha portoricensis.
Bunting | Blue Bunting | Cyanocompsa parellina.
| Gray Bunting | Emberiza variabilis.
| Indigo Bunting | Passerina cyanea.
| Lark Bunting | Calamospiza melanocorys.
| Lazuli Bunting | Passerina amoena.
| Little Bunting | Emberiza pusilla.
| McKay's Bunting | Plectrophenax hyperboreus.
| Painted Bunting | Passerina ciris.
| Pallas's Bunting | Emberiza pallasi.
| Pine Bunting | Emberiza leucocephalos.
| Reed Bunting | Emberiza schoeniclus.
| Rustic Bunting | Emberiza rustica.
| Snow Bunting | Plectrophenax nivalis.
| Varied Bunting | Passerina versicolor.
| Yellow-breasted Bunting | Emberiza aureola.
| Yellow-browed Bunting | Emberiza chrysophrys.
| Yellow-throated Bunting | Emberiza elegans.
Bushtit | Bushtit | Psaltriparus minimus.
Buzzard | Gray-faced Buzzard | Butastur indicus.
| Long-legged Buzzard | Buteo rufinus.
Canvasback | Canvasback | Aythya valisineria.
Caracara | Crested Caracara | Caracara plancus.
Cardinal | Northern Cardinal | Cardinalis cardinalis.
Carib | Green-throated Carib | Eulampis holosericeus.
| Purple-throated Carib | Eulampis jugularis.
Catbird | Black Catbird | Melanoptila glabrirostris.
| Gray Catbird | Dumetella carolinensis.
Chaffinch | Common Chaffinch | Fringilla coelebs.
Chat | Yellow-breasted Chat | Icteria virens.
Chickadee | Black-capped Chickadee | Poecile atricapillus.
| Boreal Chickadee | Poecile hudsonicus.
| Carolina Chickadee | Poecile carolinensis.
| Chestnut-backed Chickadee | Poecile rufescens.
| Gray-headed Chickadee | Poecile cinctus.
| Mexican Chickadee | Poecile sclateri.
| Mountain Chickadee | Poecile gambeli.
Chiffchaff | Common Chiffchaff | Phylloscopus collybita.
Chuck-will's-widow | Chuck-will's-widow | Antrostomus carolinensis.
Condor | California Condor | Gymnogyps californianus.
Coot | American Coot | Fulica americana.
| Eurasian Coot | Fulica atra.
| Hawaiian Coot | Fulica alai.
Cormorant | Brandt's Cormorant | Urile penicillatus.
| Double-crested Cormorant | Nannopterum auritum.
| Great Cormorant | Phalacrocorax carbo.
| Little Pied Cormorant | Microcarbo melanoleucos.
| Neotropic Cormorant | Nannopterum brasilianum.
| Pelagic Cormorant | Urile pelagicus.
| Red-faced Cormorant | Urile urile.
Cowbird | Bronzed Cowbird | Molothrus aeneus.
| Brown-headed Cowbird | Molothrus ater.
| Shiny Cowbird | Molothrus bonariensis.
Crake | Corn Crake | Crex crex.
| Paint-billed Crake | Neocrex erythrops.
| Spotless Crake | Porzana tabuensis.
| Yellow-breasted Crake | Hapalocrex flaviventer.
Crane | Common Crane | Grus grus.
| Hooded Crane | Grus monacha.
| Sandhill Crane | Antigone canadensis.
| Whooping Crane | Grus americana.
Creeper | Brown Creeper | Certhia americana.
| Hawaii Creeper | Loxops mana.
Crossbill | Cassia Crossbill | Loxia sinesciuris.
| Red Crossbill | Loxia curvirostra.
| White-winged Crossbill | Loxia leucoptera.
Crow | American Crow | Corvus brachyrhynchos.
| Fish Crow | Corvus ossifragus.
| Hawaiian Crow | Corvus hawaiiensis.
| Mariana Crow | Corvus kubaryi.
| Tamaulipas Crow | Corvus imparatus.
| White-necked Crow | Corvus leucognaphalus.
Cuckoo | Black-billed Cuckoo | Coccyzus erythropthalmus.
| Chestnut-winged Cuckoo | Clamator coromandus.
| Common Cuckoo | Cuculus canorus.
| Dark-billed Cuckoo | Coccyzus melacoryphus.
| Mangrove Cuckoo | Coccyzus minor.
| Oriental Cuckoo | Cuculus optatus.
| Yellow-billed Cuckoo | Coccyzus americanus.
Curlew | Bristle-thighed Curlew | Numenius tahitiensis.
| Eskimo Curlew | Numenius borealis.
| Eurasian Curlew | Numenius arquata.
| Far Eastern Curlew | Numenius madagascariensis.
| Little Curlew | Numenius minutus.
| Long-billed Curlew | Numenius americanus.
Dickcissel | Dickcissel | Spiza americana.
Dipper | American Dipper | Cinclus mexicanus.
Dotterel | Eurasian Dotterel | Charadrius morinellus.
Dove | Common Ground Dove | Columbina passerina.
| Inca Dove | Columbina inca.
| Mourning Dove | Zenaida macroura.
| Ruddy Ground Dove | Columbina talpacoti.
| Shy Ground Dove | Alopecoenas stairi.
| White-throated Ground Dove | Alopecoenas xanthonurus.
| White-tipped Dove | Leptotila verreauxi.
| White-winged Dove | Zenaida asiatica.
| Zenaida Dove | Zenaida aurita.
Dovekie | Dovekie | Alle alle.
Dowitcher | Long-billed Dowitcher | Limnodromus scolopaceus.
| Short-billed Dowitcher | Limnodromus griseus.
Duck | American Black Duck | Anas rubripes.
| Eastern Spot-billed Duck | Anas zonorhyncha.
| Falcated Duck | Mareca falcata.
| Harlequin Duck | Histrionicus histrionicus.
| Hawaiian Duck | Anas wyvilliana.
| Laysan Duck | Anas laysanensis.
| Long-tailed Duck | Clangula hyemalis.
| Masked Duck | Nomonyx dominicus.
| Mexican Duck | Anas diazi.
| Mottled Duck | Anas fulvigula.
| Muscovy Duck | Cairina moschata.
| Pacific Black Duck | Anas superciliosa.
| Ring-necked Duck | Aythya collaris.
| Ruddy Duck | Oxyura jamaicensis.
| Tufted Duck | Aythya fuligula.
| Wood Duck | Aix sponsa.
Dunlin | Dunlin | Calidris alpina.
Eagle | Bald Eagle | Haliaeetus leucocephalus.
| Golden Eagle | Aquila chrysaetos.
| White-tailed Eagle | Haliaeetus albicilla.
Egret | Cattle Egret | Bubulcus ibis.
| Chinese Egret | Egretta eulophotes.
| Great Egret | Ardea alba.
| Intermediate Egret | Ardea intermedia.
| Little Egret | Egretta garzetta.
| Reddish Egret | Egretta rufescens.
| Snowy Egret | Egretta thula.
Eider | Common Eider | Somateria mollissima.
| King Eider | Somateria spectabilis.
| Spectacled Eider | Somateria fischeri.
| Steller's Eider | Polysticta stelleri.
Elaenia | Caribbean Elaenia | Elaenia martinica.
| Greenish Elaenia | Myiopagis viridicata.
| Small-billed Elaenia | Elaenia parvirostris.
| White-crested Elaenia | Elaenia albiceps.
Emerald | Puerto Rican Emerald | Riccordia maugaeus.
Euphonia | Antillean Euphonia | Chlorophonia musica.
Falcon | Amur Falcon | Falco amurensis.
| Aplomado Falcon | Falco femoralis.
| Peregrine Falcon | Falco peregrinus.
| Prairie Falcon | Falco mexicanus.
| Red-footed Falcon | Falco vespertinus.
Fieldfare | Fieldfare | Turdus pilaris.
Finch | Cassin's Finch | Haemorhous cassinii.
| House Finch | Haemorhous mexicanus.
| Laysan Finch | Telespiza cantans.
| Nihoa Finch | Telespiza ultima.
| Purple Finch | Haemorhous purpureus.
Flamingo | American Flamingo | Phoenicopterus ruber.
Flicker | Gilded Flicker | Colaptes chrysoides.
| Northern Flicker | Colaptes auratus.
Flycatcher | Acadian Flycatcher | Empidonax virescens.
| Alder Flycatcher | Empidonax alnorum.
| Ash-throated Flycatcher | Myiarchus cinerascens.
| Asian Brown Flycatcher | Muscicapa dauurica.
| Brown-crested Flycatcher | Myiarchus tyrannulus.
| Buff-breasted Flycatcher | Empidonax fulvifrons.
| Cordilleran Flycatcher | Empidonax occidentalis.
| Crowned Slaty Flycatcher | Empidonomus aurantioatrocristatus.
| Dark-sided Flycatcher | Muscicapa sibirica.
| Dusky Flycatcher | Empidonax oberholseri.
| Dusky-capped Flycatcher | Myiarchus tuberculifer.
| Fork-tailed Flycatcher | Tyrannus savana.
| Gray Flycatcher | Empidonax wrightii.
| Gray-streaked Flycatcher | Muscicapa griseisticta.
| Great Crested Flycatcher | Myiarchus crinitus.
| Hammond's Flycatcher | Empidonax hammondii.
| La Sagra's Flycatcher | Myiarchus sagrae.
| Least Flycatcher | Empidonax minimus.
| Mugimaki Flycatcher | Ficedula mugimaki.
| Narcissus Flycatcher | Ficedula narcissina.
| Nutting's Flycatcher | Myiarchus nuttingi.
| Olive-sided Flycatcher | Contopus cooperi.
| Pacific-slope Flycatcher | Empidonax difficilis.
| Pine Flycatcher | Empidonax affinis.
| Piratic Flycatcher | Legatus leucophaius.
| Puerto Rican Flycatcher | Myiarchus antillarum.
| Scissor-tailed Flycatcher | Tyrannus forficatus.
| Social Flycatcher | Myiozetetes similis.
| Spotted Flycatcher | Muscicapa striata.
| Sulphur-bellied Flycatcher | Myiodynastes luteiventris.
| Taiga Flycatcher | Ficedula albicilla.
| Tufted Flycatcher | Mitrephanes phaeocercus.
| Variegated Flycatcher | Empidonomus varius.
| Vermilion Flycatcher | Pyrocephalus rubinus.
| Willow Flycatcher | Empidonax traillii.
| Yellow-bellied Flycatcher | Empidonax flaviventris.
Forest-Falcon | Collared Forest-Falcon | Micrastur semitorquatus.
Frigatebird | Great Frigatebird | Fregata minor.
| Lesser Frigatebird | Fregata ariel.
| Magnificent Frigatebird | Fregata magnificens.
Fruit-Dove | Crimson-crowned Fruit-Dove | Ptilinopus porphyraceus.
| Many-colored Fruit-Dove | Ptilinopus perousii.
| Mariana Fruit-Dove | Ptilinopus roseicapilla.
Fulmar | Northern Fulmar | Fulmarus glacialis.
Gadwall | Gadwall | Mareca strepera.
Gallinule | Azure Gallinule | Porphyrio flavirostris.
| Common Gallinule | Gallinula galeata.
| Purple Gallinule | Porphyrio martinicus.
Gannet | Northern Gannet | Morus bassanus.
Garganey | Garganey | Spatula querquedula.
Giant-Petrel | Northern Giant-Petrel | Macronectes halli.
Gnatcatcher | Black-capped Gnatcatcher | Polioptila nigriceps.
| Black-tailed Gnatcatcher | Polioptila melanura.
| Blue-Gray Gnatcatcher | Polioptila caerulea.
| California Gnatcatcher | Polioptila californica.
Godwit | Bar-tailed Godwit | Limosa lapponica.
| Black-tailed Godwit | Limosa limosa.
| Hudsonian Godwit | Limosa haemastica.
| Marbled Godwit | Limosa fedoa.
Goldeneye | Barrow's Goldeneye | Bucephala islandica.
| Common Goldeneye | Bucephala clangula.
Golden-Plover | American Golden-Plover | Pluvialis dominica.
| European Golden-Plover | Pluvialis apricaria.
| Pacific Golden-Plover | Pluvialis fulva.
Goldfinch | American Goldfinch | Spinus tristis.
| Lawrence's Goldfinch | Spinus lawrencei.
| Lesser Goldfinch | Spinus psaltria.
Goose | Barnacle Goose | Branta leucopsis.
| Cackling Goose | Branta hutchinsii.
| Canada Goose | Branta canadensis.
| Emperor Goose | Anser canagicus.
| Greater White-fronted Goose | Anser albifrons.
| Hawaiian Goose | Branta sandvicensis.
| Lesser White-fronted Goose | Anser erythropus.
| Pink-footed Goose | Anser brachyrhynchus.
| Ross's Goose | Anser rossii.
| Snow Goose | Anser caerulescens.
Goshawk | Northern Goshawk | Accipiter gentilis.
Grackle | Boat-tailed Grackle | Quiscalus major.
| Common Grackle | Quiscalus quiscula.
| Greater Antillean Grackle | Quiscalus niger.
| Great-tailed Grackle | Quiscalus mexicanus.
Grassquit | Black-faced Grassquit | Melanospiza bicolor.
| Yellow-faced Grassquit | Tiaris olivaceus.
Grebe | Clark's Grebe | Aechmophorus clarkii.
| Eared Grebe | Podiceps nigricollis.
| Horned Grebe | Podiceps auritus.
| Least Grebe | Tachybaptus dominicus.
| Pied-billed Grebe | Podilymbus podiceps.
| Red-necked Grebe | Podiceps grisegena.
| Western Grebe | Aechmophorus occidentalis.
Greenfinch | Oriental Greenfinch | Chloris sinica.
Greenshank | Common Greenshank | Tringa nebularia.
| Nordmann's Greenshank | Tringa guttifer.
Grosbeak | Black-headed Grosbeak | Pheucticus melanocephalus.
| Blue Grosbeak | Passerina caerulea.
| Crimson-collared Grosbeak | Rhodothraupis celaeno.
| Evening Grosbeak | Coccothraustes vespertinus.
| Pine Grosbeak | Pinicola enucleator.
| Rose-breasted Grosbeak | Pheucticus ludovicianus.
| Yellow Grosbeak | Pheucticus chrysopeplus.
Guillemot | Black Guillemot | Cepphus grylle.
| Pigeon Guillemot | Cepphus columba.
Gull | Belcher's Gull | Larus belcheri.
| Black-headed Gull | Chroicocephalus ridibundus.
| Black-tailed Gull | Larus crassirostris.
| Bonaparte's Gull | Chroicocephalus philadelphia.
| California Gull | Larus californicus.
| Common Gull | Larus canus.
| Franklin's Gull | Leucophaeus pipixcan.
| Glaucous Gull | Larus hyperboreus.
| Glaucous-winged Gull | Larus glaucescens.
| Gray-hooded Gull | Chroicocephalus cirrocephalus.
| Great Black-backed Gull | Larus marinus.
| Heermann's Gull | Larus heermanni.
| Herring Gull | Larus argentatus.
| Iceland Gull | Larus glaucoides.
| Ivory Gull | Pagophila eburnea.
| Kelp Gull | Larus dominicanus.
| Laughing Gull | Leucophaeus atricilla.
| Lesser Black-backed Gull | Larus fuscus.
| Little Gull | Hydrocoloeus minutus.
| Pallas's Gull | Ichthyaetus ichthyaetus.
| Ring-billed Gull | Larus delawarensis.
| Ross's Gull | Rhodostethia rosea.
| Sabine's Gull | Xema sabini.
| Short-billed Gull | Larus brachyrhynchus.
| Slaty-backed Gull | Larus schistisagus.
| Swallow-tailed Gull | Creagrus furcatus.
| Western Gull | Larus occidentalis.
| Yellow-footed Gull | Larus livens.
| Yellow-legged Gull | Larus michahellis.
Gyrfalcon | Gyrfalcon | Falco rusticolus.
Harrier | Northern Harrier | Circus hudsonius.
Hawfinch | Hawfinch | Coccothraustes coccothraustes.
Hawk | Broad-winged Hawk | Buteo platypterus.
| Common Black Hawk | Buteogallus anthracinus.
| Cooper's Hawk | Accipiter cooperii.
| Crane Hawk | Geranospiza caerulescens.
| Ferruginous Hawk | Buteo regalis.
| Gray Hawk | Buteo plagiatus.
| Great Black Hawk | Buteogallus urubitinga.
| Harris's Hawk | Parabuteo unicinctus.
| Hawaiian Hawk | Buteo solitarius.
| Red-shouldered Hawk | Buteo lineatus.
| Red-tailed Hawk | Buteo jamaicensis.
| Roadside Hawk | Rupornis magnirostris.
| Rough-legged Hawk | Buteo lagopus.
| Sharp-shinned Hawk | Accipiter striatus.
| Short-tailed Hawk | Buteo brachyurus.
| Swainson's Hawk | Buteo swainsoni.
| White-tailed Hawk | Geranoaetus albicaudatus.
| Zone-tailed Hawk | Buteo albonotatus.
Hawk-Cuckoo | Hodgson's Hawk-Cuckoo | Hierococcyx nisicolor.
Heron | Gray Heron | Ardea cinerea.
| Great Blue Heron | Ardea herodias.
| Green Heron | Butorides virescens.
| Little Blue Heron | Egretta caerulea.
| Tricolored Heron | Egretta tricolor.
Hobby | Eurasian Hobby | Falco subbuteo.
Honeycreeper | Laysan Honeycreeper | Himatione fraithii.
| Red-legged Honeycreeper | Cyanerpes cyaneus.
Hoopoe | Eurasian Hoopoe | Upupa epops.
House-Martin | Common House-Martin | Delichon urbicum.
Hummingbird | Allen's Hummingbird | Selasphorus sasin.
| Anna's Hummingbird | Calypte anna.
| Antillean Crested Hummingbird | Orthorhyncus cristatus.
| Berylline Hummingbird | Saucerottia beryllina.
| Black-chinned Hummingbird | Archilochus alexandri.
| Broad-billed Hummingbird | Cynanthus latirostris.
| Broad-tailed Hummingbird | Selasphorus platycercus.
| Buff-bellied Hummingbird | Amazilia yucatanensis.
| Bumblebee Hummingbird | Selasphorus heloisa.
| Calliope Hummingbird | Selasphorus calliope.
| Cinnamon Hummingbird | Amazilia rutila.
| Costa's Hummingbird | Calypte costae.
| Lucifer Hummingbird | Calothorax lucifer.
| Rivoli's Hummingbird | Eugenes fulgens.
| Ruby-throated Hummingbird | Archilochus colubris.
| Rufous Hummingbird | Selasphorus rufus.
| Vervain Hummingbird | Mellisuga minima.
| Violet-crowned Hummingbird | Ramosomyia violiceps.
| White-eared Hummingbird | Basilinna leucotis.
| Xantus's Hummingbird | Basilinna xantusii.
Ibis | Glossy Ibis | Plegadis falcinellus.
| Scarlet Ibis | Eudocimus ruber.
| White Ibis | Eudocimus albus.
| White-faced Ibis | Plegadis chihi.
`I`iwi | `I`iwi | Drepanis coccinea.
Imperial-Pigeon | Pacific Imperial-Pigeon | Ducula pacifica.
Jabiru | Jabiru | Jabiru mycteria.
Jacana | Northern Jacana | Jacana spinosa.
Jackdaw | Eurasian Jackdaw | Corvus monedula.
Jaeger | Long-tailed Jaeger | Stercorarius longicaudus.
| Parasitic Jaeger | Stercorarius parasiticus.
| Pomarine Jaeger | Stercorarius pomarinus.
Jay | Blue Jay | Cyanocitta cristata.
| Brown Jay | Psilorhinus morio.
| Canada Jay | Perisoreus canadensis.
| Green Jay | Cyanocorax yncas.
| Mexican Jay | Aphelocoma wollweberi.
| Pinyon Jay | Gymnorhinus cyanocephalus.
| Steller's Jay | Cyanocitta stelleri.
Junco | Dark-eyed Junco | Junco hyemalis.
| Yellow-eyed Junco | Junco phaeonotus.
Kākāwahie | Kākāwahie | Paroreomyza flammea.
Kāma`o | Kāma`o | Myadestes myadestinus.
Kestrel | American Kestrel | Falco sparverius.
| Eurasian Kestrel | Falco tinnunculus.
Killdeer | Killdeer | Charadrius vociferus.
Kingbird | Cassin's Kingbird | Tyrannus vociferans.
| Couch's Kingbird | Tyrannus couchii.
| Eastern Kingbird | Tyrannus tyrannus.
| Gray Kingbird | Tyrannus dominicensis.
| Loggerhead Kingbird | Tyrannus caudifasciatus.
| Thick-billed Kingbird | Tyrannus crassirostris.
| Tropical Kingbird | Tyrannus melancholicus.
| Western Kingbird | Tyrannus verticalis.
Kingfisher | Amazon Kingfisher | Chloroceryle amazona.
| Belted Kingfisher | Megaceryle alcyon.
| Common Kingfisher | Alcedo atthis.
| Green Kingfisher | Chloroceryle americana.
| Guam Kingfisher | Todiramphus cinnamominus.
| Mariana Kingfisher | Todiramphus albicilla.
| Pacific Kingfisher | Todiramphus sacer.
| Ringed Kingfisher | Megaceryle torquata.
Kinglet | Golden-crowned Kinglet | Regulus satrapa.
| Ruby-crowned Kinglet | Corthylio calendula.
Kiskadee | Great Kiskadee | Pitangus sulphuratus.
Kite | Black Kite | Milvus migrans.
| Double-toothed Kite | Harpagus bidentatus.
| Hook-billed Kite | Chondrohierax uncinatus.
| Mississippi Kite | Ictinia mississippiensis.
| Snail Kite | Rostrhamus sociabilis.
| Swallow-tailed Kite | Elanoides forficatus.
| White-tailed Kite | Elanus leucurus.
Kittiwake | Black-legged Kittiwake | Rissa tridactyla.
| Red-legged Kittiwake | Rissa brevirostris.
Knot | Great Knot | Calidris tenuirostris.
| Red Knot | Calidris canutus.
Koel | Long-tailed Koel | Urodynamis taitensis.
Lapwing | Northern Lapwing | Vanellus vanellus.
Lark | Horned Lark | Eremophila alpestris.
Limpkin | Limpkin | Aramus guarauna.
Lizard-Cuckoo | Puerto Rican Lizard-Cuckoo | Coccyzus vieilloti.
Longspur | Chestnut-collared Longspur | Calcarius ornatus.
| Lapland Longspur | Calcarius lapponicus.
| Smith's Longspur | Calcarius pictus.
| Thick-billed Longspur | Rhynchophanes mccownii.
Loon | Arctic Loon | Gavia arctica.
| Common Loon | Gavia immer.
| Pacific Loon | Gavia pacifica.
| Red-throated Loon | Gavia stellata.
| Yellow-billed Loon | Gavia adamsii.
Magpie | Black-billed Magpie | Pica hudsonia.
| Yellow-billed Magpie | Pica nuttalli.
Mallard | Mallard | Anas platyrhynchos.
Mango | Puerto Rican Mango | Anthracothorax aurulentus.
| Green Mango | Anthracothorax viridis.
| Green-breasted Mango | Anthracothorax prevostii.
Marsh-Harrier | Eastern Marsh-Harrier | Circus spilonotus.
Martin | Brown-chested Martin | Progne tapera.
| Caribbean Martin | Progne dominicensis.
| Cuban Martin | Progne cryptoleuca.
| Gray-breasted Martin | Progne chalybea.
| Purple Martin | Progne subis.
| Southern Martin | Progne elegans.
Meadowlark | Chihuahuan Meadowlark | Sturnella lilianae.
| Eastern Meadowlark | Sturnella magna.
| Western Meadowlark | Sturnella neglecta.
Merganser | Common Merganser | Mergus merganser.
| Hooded Merganser | Lophodytes cucullatus.
| Red-breasted Merganser | Mergus serrator.
Merlin | Merlin | Falco columbarius.
Millerbird | Millerbird | Acrocephalus familiaris.
Mockingbird | Bahama Mockingbird | Mimus gundlachii.
| Blue Mockingbird | Melanotis caerulescens.
| Northern Mockingbird | Mimus polyglottos.
Moorhen | Eurasian Moorhen | Gallinula chloropus.
Mountain-gem | Amethyst-throated Mountain-gem | Lampornis amethystinus.
| Blue-throated Mountain-gem | Lampornis clemenciae.
Murre | Common Murre | Uria aalge.
| Thick-billed Murre | Uria lomvia.
Murrelet | Ancient Murrelet | Synthliboramphus antiquus.
| Craveri's Murrelet | Synthliboramphus craveri.
| Guadalupe Murrelet | Synthliboramphus hypoleucus.
| Kittlitz's Murrelet | Brachyramphus brevirostris.
| Long-billed Murrelet | Brachyramphus perdix.
| Marbled Murrelet | Brachyramphus marmoratus.
| Scripps's Murrelet | Synthliboramphus scrippsi.
Needletail | White-throated Needletail | Hirundapus caudacutus.
Nighthawk | Antillean Nighthawk | Chordeiles gundlachii.
| Common Nighthawk | Chordeiles minor.
| Lesser Nighthawk | Chordeiles acutipennis.
Night-Heron | Black-crowned Night-Heron | Nycticorax nycticorax.
| Japanese Night-Heron | Gorsachius goisagi.
| Malayan Night-Heron | Gorsachius melanolophus.
| Nankeen Night-Heron | Nycticorax caledonicus.
| Yellow-crowned Night-Heron | Nyctanassa violacea.
Nightingale-Thrush | Black-headed Nightingale-Thrush | Catharus mexicanus.
| Orange-billed Nightingale-Thrush | Catharus aurantiirostris.
Nightjar | Buff-collared Nightjar | Antrostomus ridgwayi.
| Gray Nightjar | Caprimulgus jotaka.
| Puerto Rican Nightjar | Antrostomus noctitherus.
| White-tailed Nightjar | Hydropsalis cayennensis.
Noddy | Black Noddy | Anous minutus.
| Blue-gray Noddy | Anous ceruleus.
| Brown Noddy | Anous stolidus.
Nukupu`u | Kauai Nukupu`u | Hemignathus hanapepe.
| Maui Nukupu`u | Hemignathus affinis.
| O`ahu Nukupu`u | Hemignathus lucidus.
Nutcracker | Clark's Nutcracker | Nucifraga columbiana.
Nuthatch | Brown-headed Nuthatch | Sitta pusilla.
| Pygmy Nuthatch | Sitta pygmaea.
| Red-breasted Nuthatch | Sitta canadensis.
| White-breasted Nuthatch | Sitta carolinensis.
Oloma`o | Oloma`o | Myadestes lanaiensis.
`Ōma'o | `Ōma'o | Myadestes obscurus.
Oriole | Altamira Oriole | Icterus gularis.
| Audubon's Oriole | Icterus graduacauda.
| Baltimore Oriole | Icterus galbula.
| Black-backed Oriole | Icterus abeillei.
| Black-vented Oriole | Icterus wagleri.
| Bullock's Oriole | Icterus bullockii.
| Hooded Oriole | Icterus cucullatus.
| Orchard Oriole | Icterus spurius.
| Puerto Rican Oriole | Icterus portoricensis.
| Scott's Oriole | Icterus parisorum.
| Streak-backed Oriole | Icterus pustulatus.
Osprey | Osprey | Pandion haliaetus.
`Ō`ū | `Ō`ū | Psittirostra psittacea.
Ovenbird | Ovenbird | Seiurus aurocapilla.
Owl | Barn Owl | Tyto alba.
| Barred Owl | Strix varia.
| Boreal Owl | Aegolius funereus.
| Burrowing Owl | Athene cunicularia.
| Elf Owl | Micrathene whitneyi.
| Flammulated Owl | Psiloscops flammeolus.
| Great Gray Owl | Strix nebulosa.
| Great Horned Owl | Bubo virginianus.
| Long-eared Owl | Asio otus.
| Mottled Owl | Strix virgata.
| Northern Hawk Owl | Surnia ulula.
| Northern Saw-whet Owl | Aegolius acadicus.
| Puerto Rican Owl | Gymnasio nudipes.
| Short-eared Owl | Asio flammeus.
| Snowy Owl | Bubo scandiacus.
| Spotted Owl | Strix occidentalis.
| Stygian Owl | Asio stygius.
Oystercatcher | American Oystercatcher | Haematopus palliatus.
| Black Oystercatcher | Haematopus bachmani.
| Eurasian Oystercatcher | Haematopus ostralegus.
Palila | Palila | Loxioides bailleui.
Palm-Swift | Antillean Palm-Swift | Tachornis phoenicobia.
Parrotbill | Maui Parrotbill | Pseudonestor xanthophrys.
Parula | Northern Parula | Setophaga americana.
| Tropical Parula | Setophaga pitiayumi.
Pauraque | Common Pauraque | Nyctidromus albicollis.
Pelican | American White Pelican | Pelecanus erythrorhynchos.
| Brown Pelican | Pelecanus occidentalis.
Petrel | Bermuda Petrel | Pterodroma cahow.
| Black-capped Petrel | Pterodroma hasitata.
| Black-winged Petrel | Pterodroma nigripennis.
| Bonin Petrel | Pterodroma hypoleuca.
| Bulwer's Petrel | Bulweria bulwerii.
| Cook's Petrel | Pterodroma cookii.
| Fea's Petrel | Pterodroma feae.
| Gould's Petrel | Pterodroma leucoptera.
| Gray-faced Petrel | Pterodroma gouldi.
| Hawaiian Petrel | Pterodroma sandwichensis.
| Herald Petrel | Pterodroma heraldica.
| Jouanin's Petrel | Bulweria fallax.
| Juan Fernandez Petrel | Pterodroma externa.
| Kermadec Petrel | Pterodroma neglecta.
| Mottled Petrel | Pterodroma inexpectata.
| Murphy's Petrel | Pterodroma ultima.
| Parkinson's Petrel | Procellaria parkinsoni.
| Phoenix Petrel | Pterodroma alba.
| Providence Petrel | Pterodroma solandri.
| Stejneger's Petrel | Pterodroma longirostris.
| Tahiti Petrel | Pseudobulweria rostrata.
| Trindade Petrel | Pterodroma arminjoniana.
| White-chinned Petrel | Procellaria aequinoctialis.
| White-necked Petrel | Pterodroma cervicalis.
| Zino's Petrel | Pterodroma madeira.
Pewee | Cuban Pewee | Contopus caribaeus.
| Greater Pewee | Contopus pertinax.
| Hispaniolan Pewee | Contopus hispaniolensis.
| Lesser Antillean Pewee | Contopus latirostris.
Phainopepla | Phainopepla | Phainopepla nitens.
Phalarope | Red Phalarope | Phalaropus fulicarius.
| Red-necked Phalarope | Phalaropus lobatus.
| Wilson's Phalarope | Phalaropus tricolor.
Phoebe | Black Phoebe | Sayornis nigricans.
| Eastern Phoebe | Sayornis phoebe.
| Say's Phoebe | Sayornis saya.
Pigeon | Band-tailed Pigeon | Patagioenas fasciata.
| Plain Pigeon | Patagioenas inornata.
| Red-billed Pigeon | Patagioenas flavirostris.
| Scaly-naped Pigeon | Patagioenas squamosa.
| White-crowned Pigeon | Patagioenas leucocephala.
Pintail | Northern Pintail | Anas acuta.
| White-cheeked Pintail | Anas bahamensis.
Pipit | American Pipit | Anthus rubescens.
| Olive-backed Pipit | Anthus hodgsoni.
| Pechora Pipit | Anthus gustavi.
| Red-throated Pipit | Anthus cervinus.
| Sprague's Pipit | Anthus spragueii.
| Tree Pipit | Anthus trivialis.
Plover | Black-bellied Plover | Pluvialis squatarola.
| Collared Plover | Charadrius collaris.
| Common Ringed Plover | Charadrius hiaticula.
| Kentish Plover | Charadrius alexandrinus.
| Little Ringed Plover | Charadrius dubius.
| Mountain Plover | Charadrius montanus.
| Piping Plover | Charadrius melodus.
| Semipalmated Plover | Charadrius semipalmatus.
| Snowy Plover | Charadrius nivosus.
| Wilson's Plover | Charadrius wilsonia.
Pochard | Baer's Pochard | Aythya baeri.
| Common Pochard | Aythya ferina.
Pond-Heron | Chinese Pond-Heron | Ardeola bacchus.
Poorwill | Common Poorwill | Phalaenoptilus nuttallii.
Po`ouli | Po`ouli | Melamprosops phaeosoma.
Puaiohi | Puaiohi | Myadestes palmeri.
Puffin | Atlantic Puffin | Fratercula arctica.
| Horned Puffin | Fratercula corniculata.
| Tufted Puffin | Fratercula cirrhata.
Pygmy-Owl | Ferruginous Pygmy-Owl | Glaucidium brasilianum.
| Northern Pygmy-Owl | Glaucidium gnoma.
Pyrrhuloxia | Pyrrhuloxia | Cardinalis sinuatus.
Quail-Dove | Bridled Quail-Dove | Geotrygon mystacea.
| Key West Quail-Dove | Geotrygon chrysia.
| Ruddy Quail-Dove | Geotrygon montana.
Quetzal | Eared Quetzal | Euptilotis neoxenus.
Rail | Black Rail | Laterallus jamaicensis.
| Buff-banded Rail | Gallirallus philippensis.
| Clapper Rail | Rallus crepitans.
| Guam Rail | Gallirallus owstoni.
| King Rail | Rallus elegans.
| Ridgway's Rail | Rallus obsoletus.
| Spotted Rail | Pardirallus maculatus.
| Virginia Rail | Rallus limicola.
| Yellow Rail | Coturnicops noveboracensis.
Raven | Chihuahuan Raven | Corvus cryptoleucus.
| Common Raven | Corvus corax.
Razorbill | Razorbill | Alca torda.
Redhead | Redhead | Aythya americana.
Redpoll | Common Redpoll | Acanthis flammea.
| Hoary Redpoll | Acanthis hornemanni.
Redshank | Common Redshank | Tringa totanus.
| Spotted Redshank | Tringa erythropus.
Redstart | American Redstart | Setophaga ruticilla.
| Common Redstart | Phoenicurus phoenicurus.
| Painted Redstart | Myioborus pictus.
| Slate-throated Redstart | Myioborus miniatus.
Redwing | Redwing | Turdus iliacus.
Reef-Heron | Pacific Reef-Heron | Egretta sacra.
| Western Reef-Heron | Egretta gularis.
Roadrunner | Greater Roadrunner | Geococcyx californianus.
Robin | American Robin | Turdus migratorius.
| European Robin | Erithacus rubecula.
| Rufous-backed Robin | Turdus rufopalliatus.
| Rufous-tailed Robin | Larvivora sibilans.
| Siberian Blue Robin | Larvivora cyane.
Rock-Thrush | Blue Rock-Thrush | Monticola solitarius.
Rosefinch | Common Rosefinch | Carpodacus erythrinus.
| Pallas's Rosefinch | Carpodacus roseus.
Rosy-Finch | Asian Rosy-Finch | Leucosticte arctoa.
| Black Rosy-Finch | Leucosticte atrata.
| Brown-capped Rosy-Finch | Leucosticte australis.
| Gray-crowned Rosy-Finch | Leucosticte tephrocotis.
Rubythroat | Siberian Rubythroat | Calliope calliope.
Ruff | Ruff | Calidris pugnax.
Sanderling | Sanderling | Calidris alba.
Sandpiper | Baird's Sandpiper | Calidris bairdii.
| Broad-billed Sandpiper | Calidris falcinellus.
| Buff-breasted Sandpiper | Calidris subruficollis.
| Common Sandpiper | Actitis hypoleucos.
| Curlew Sandpiper | Calidris ferruginea.
| Green Sandpiper | Tringa ochropus.
| Least Sandpiper | Calidris minutilla.
| Marsh Sandpiper | Tringa stagnatilis.
| Pectoral Sandpiper | Calidris melanotos.
| Purple Sandpiper | Calidris maritima.
| Rock Sandpiper | Calidris ptilocnemis.
| Semipalmated Sandpiper | Calidris pusilla.
| Sharp-tailed Sandpiper | Calidris acuminata.
| Solitary Sandpiper | Tringa solitaria.
| Spoon-billed Sandpiper | Calidris pygmea.
| Spotted Sandpiper | Actitis macularius.
| Stilt Sandpiper | Calidris himantopus.
| Terek Sandpiper | Xenus cinereus.
| Upland Sandpiper | Bartramia longicauda.
| Western Sandpiper | Calidris mauri.
| White-rumped Sandpiper | Calidris fuscicollis.
| Wood Sandpiper | Tringa glareola.
Sand-Plover | Greater Sand-Plover | Charadrius leschenaultii.
| Lesser Sand-Plover | Charadrius mongolus.
Sapsucker | Red-breasted Sapsucker | Sphyrapicus ruber.
| Red-naped Sapsucker | Sphyrapicus nuchalis.
| Williamson's Sapsucker | Sphyrapicus thyroideus.
| Yellow-bellied Sapsucker | Sphyrapicus varius.
Scaup | Greater Scaup | Aythya marila.
| Lesser Scaup | Aythya affinis.
Scops-Owl | Oriental Scops-Owl | Otus sunia.
Scoter | Black Scoter | Melanitta americana.
| Common Scoter | Melanitta nigra.
| Stejneger's Scoter | Melanitta stejneger.
| Surf Scoter | Melanitta perspicillata.
| White-winged Scoter | Melanitta deglandi.
Screech-Owl | Eastern Screech-Owl | Megascops asio.
| Western Screech-Owl | Megascops kennicottii.
| Whiskered Screech-Owl | Megascops trichopsis.
Scrub-Jay | California Scrub-Jay | Aphelocoma californica.
| Florida Scrub-Jay | Aphelocoma coerulescens.
| Island Scrub-Jay | Aphelocoma insularis.
| Woodhouse's Scrub-Jay | Aphelocoma woodhouseii.
Sea-Eagle | Steller's Sea-Eagle | Haliaeetus pelagicus.
Seedeater | Morelet's Seedeater | Sporophila morelleti.
Shearwater | Audubon's Shearwater | Puffinus lherminieri.
| Barolo Shearwater | Puffinus baroli.
| Black-vented Shearwater | Puffinus opisthomelas.
| Bryan's Shearwater | Puffinus bryani.
| Buller's Shearwater | Ardenna bulleri.
| Cape Verde Shearwater | Calonectris edwardsii.
| Christmas Shearwater | Puffinus nativitatis.
| Cory's Shearwater | Calonectris diomedea.
| Flesh-footed Shearwater | Ardenna carneipes.
| Great Shearwater | Ardenna gravis.
| Manx Shearwater | Puffinus puffinus.
| Newell's Shearwater | Puffinus newelli.
| Pink-footed Shearwater | Ardenna creatopus.
| Short-tailed Shearwater | Ardenna tenuirostris.
| Sooty Shearwater | Ardenna grisea.
| Streaked Shearwater | Calonectris leucomelas.
| Wedge-tailed Shearwater | Ardenna pacifica.
Shoveler | Northern Shoveler | Spatula clypeata.
Shrike | Brown Shrike | Lanius cristatus.
| Loggerhead Shrike | Lanius ludovicianus.
| Northern Shrike | Lanius borealis.
Silky-Flycatcher | Gray Silky-Flycatcher | Ptiliogonys cinereus.
Siskin | Eurasian Siskin | Spinus spinus.
| Pine Siskin | Spinus pinus.
Skimmer | Black Skimmer | Rynchops niger.
Skua | Great Skua | Stercorarius skua.
| South Polar Skua | Stercorarius maccormicki.
Skylark | Eurasian Skylark | Alauda arvensis.
Smew | Smew | Mergellus albellus.
Snipe | Common Snipe | Gallinago gallinago.
| Jack Snipe | Lymnocryptes minimus.
| Pin-tailed Snipe | Gallinago stenura.
| Solitary Snipe | Gallinago solitaria.
| Swinhoe's Snipe | Gallinago megala.
| Wilson's Snipe | Gallinago delicata.
Solitaire | Brown-backed Solitaire | Myadestes occidentalis.
| Townsend's Solitaire | Myadestes townsendi.
Sora | Sora | Porzana carolina.
Sparrow | American Tree Sparrow | Spizelloides arborea.
| Bachman's Sparrow | Peucaea aestivalis.
| Baird's Sparrow | Centronyx bairdii.
| Bell's Sparrow | Artemisiospiza belli.
| Black-chinned Sparrow | Spizella atrogularis.
| Black-throated Sparrow | Amphispiza bilineata.
| Botteri's Sparrow | Peucaea botterii.
| Brewer's Sparrow | Spizella breweri.
| Cassin's Sparrow | Peucaea cassinii.
| Chipping Sparrow | Spizella passerina.
| Clay-colored Sparrow | Spizella pallida.
| Field Sparrow | Spizella pusilla.
| Five-striped Sparrow | Amphispizopsis quinquestriata.
| Fox Sparrow | Passerella iliaca.
| Golden-crowned Sparrow | Zonotrichia atricapilla.
| Grasshopper Sparrow | Ammodramus savannarum.
| Harris's Sparrow | Zonotrichia querula.
| Henslow's Sparrow | Centronyx henslowii.
| Lark Sparrow | Chondestes grammacus.
| LeConte's Sparrow | Ammospiza leconteii.
| Lincoln's Sparrow | Melospiza lincolnii.
| Nelson's Sparrow | Ammospiza nelsoni.
| Olive Sparrow | Arremonops rufivirgatus.
| Rufous-crowned Sparrow | Aimophila ruficeps.
| Rufous-winged Sparrow | Peucaea carpalis.
| Sagebrush Sparrow | Artemisiospiza nevadensis.
| Saltmarsh Sparrow | Ammospiza caudacuta.
| Savannah Sparrow | Passerculus sandwichensis.
| Seaside Sparrow | Ammospiza maritima.
| Song Sparrow | Melospiza melodia.
| Swamp Sparrow | Melospiza georgiana.
| Vesper Sparrow | Pooecetes gramineus.
| White-crowned Sparrow | Zonotrichia leucophrys.
| White-throated Sparrow | Zonotrichia albicollis.
| Worthen's Sparrow | Spizella wortheni.
Sparrowhawk | Chinese Sparrowhawk | Accipiter soloensis.
| Japanese Sparrowhawk | Accipiter gularis.
Spindalis | Puerto Rican Spindalis | Spindalis portoricensis.
| Western Spindalis | Spindalis zena.
Spoonbill | Roseate Spoonbill | Platalea ajaja.
Starling | Chestnut-cheeked Starling | Agropsar philippensis.
| White-cheeked Starling | Spodiopsar cineraceus.
Starthroat | Plain-capped Starthroat | Heliomaster constantii.
Stilt | Black-necked Stilt | Himantopus mexicanus.
| Black-winged Stilt | Himantopus himantopus.
Stint | Little Stint | Calidris minuta.
| Long-toed Stint | Calidris subminuta.
| Red-necked Stint | Calidris ruficollis.
| Temminck's Stint | Calidris temminckii.
Stonechat | Asian Stonechat | Saxicola maurus.
Stork | Wood Stork | Mycteria americana.
Storm-Petrel | Ashy Storm-Petrel | Hydrobates homochroa.
| Band-rumped Storm-Petrel | Hydrobates castro.
| Black Storm-Petrel | Hydrobates melania.
| Black-bellied Storm-Petrel | Fregetta tropica.
| European Storm-Petrel | Hydrobates pelagicus.
| Fork-tailed Storm-Petrel | Hydrobates furcatus.
| Leach's Storm-Petrel | Hydrobates leucorhous.
| Least Storm-Petrel | Hydrobates microsoma.
| Matsudaira's Storm-Petrel | Hydrobates matsudairae.
| Polynesian Storm-Petrel | Nesofregetta fuliginosa.
| Ringed Storm-Petrel | Hydrobates hornbyi.
| Swinhoe's Storm-Petrel | Hydrobates monorhis.
| Townsend's Storm-Petrel | Hydrobates socorroensis.
| Tristram's Storm-Petrel | Hydrobates tristrami.
| Wedge-rumped Storm-Petrel | Hydrobates tethys.
| White-bellied Storm-Petrel | Fregetta grallaria.
| White-faced Storm-Petrel | Pelagodroma marina.
| Wilson's Storm-Petrel | Oceanites oceanicus.
Surfbird | Surfbird | Calidris virgata.
Swallow | Bahama Swallow | Tachycineta cyaneoviridis.
| Bank Swallow | Riparia riparia.
| Barn Swallow | Hirundo rustica.
| Blue-and-white Swallow | Pygochelidon cyanoleuca.
| Cave Swallow | Petrochelidon fulva.
| Cliff Swallow | Petrochelidon pyrrhonota.
| Mangrove Swallow | Tachycineta albilinea.
| Northern Rough-winged Swallow | Stelgidopteryx serripennis.
| Tree Swallow | Tachycineta bicolor.
| Violet-green Swallow | Tachycineta thalassina.
Swamphen | Purple Swamphen | Porphyrio porphyrio.
Swan | Trumpeter Swan | Cygnus buccinator.
| Tundra Swan | Cygnus columbianus.
| Whooper Swan | Cygnus cygnus.
Swift | Alpine Swift | Apus melba.
| Black Swift | Cypseloides niger.
| Chimney Swift | Chaetura pelagica.
| Common Swift | Apus apus.
| Fork-tailed Swift | Apus pacificus.
| Short-tailed Swift | Chaetura brachyura.
| Vaux's Swift | Chaetura vauxi.
| White-collared Swift | Streptoprocne zonaris.
| White-throated Swift | Aeronautes saxatalis.
Swiftlet | Mariana Swiftlet | Aerodramus bartschi.
| White-rumped Swiftlet | Aerodramus spodiopygius.
Tanager | Flame-colored Tanager | Piranga bidentata.
| Hepatic Tanager | Piranga flava.
| Puerto Rican Tanager | Nesospingus speculiferus.
| Scarlet Tanager | Piranga olivacea.
| Summer Tanager | Piranga rubra.
| Western Tanager | Piranga ludoviciana.
Tattler | Gray-tailed Tattler | Tringa brevipes.
| Wandering Tattler | Tringa incana.
Teal | Baikal Teal | Sibirionetta formosa.
| Blue-winged Teal | Spatula discors.
| Cinnamon Teal | Spatula cyanoptera.
| Green-winged Teal | Anas crecca.
Tern | Aleutian Tern | Onychoprion aleuticus.
| Arctic Tern | Sterna paradisaea.
| Black Tern | Chlidonias niger.
| Black-naped Tern | Sterna sumatrana.
| Bridled Tern | Onychoprion anaethetus.
| Caspian Tern | Hydroprogne caspia.
| Common Tern | Sterna hirundo.
| Elegant Tern | Thalasseus elegans.
| Forster's Tern | Sterna forsteri.
| Gray-backed Tern | Onychoprion lunatus.
| Great Crested Tern | Thalasseus bergii.
| Gull-billed Tern | Gelochelidon nilotica.
| Inca Tern | Larosterna inca.
| Large-billed Tern | Phaetusa simplex.
| Least Tern | Sternula antillarum.
| Little Tern | Sternula albifrons.
| Roseate Tern | Sterna dougallii.
| Royal Tern | Thalasseus maximus.
| Sandwich Tern | Thalasseus sandvicensis.
| Sooty Tern | Onychoprion fuscatus.
| Whiskered Tern | Chlidonias hybrida.
| White Tern | Gygis alba.
| White-winged Tern | Chlidonias leucopterus.
Thrasher | Bendire's Thrasher | Toxostoma bendirei.
| Brown Thrasher | Toxostoma rufum.
| California Thrasher | Toxostoma redivivum.
| Crissal Thrasher | Toxostoma crissale.
| Curve-billed Thrasher | Toxostoma curvirostre.
| LeConte's Thrasher | Toxostoma lecontei.
| Long-billed Thrasher | Toxostoma longirostre.
| Pearly-eyed Thrasher | Margarops fuscatus.
| Sage Thrasher | Oreoscoptes montanus.
Thrush | Aztec Thrush | Ridgwayia pinicola.
| Bicknell's Thrush | Catharus bicknelli.
| Clay-colored Thrush | Turdus grayi.
| Dusky Thrush | Turdus eunomus.
| Eyebrowed Thrush | Turdus obscurus.
| Gray-cheeked Thrush | Catharus minimus.
| Hermit Thrush | Catharus guttatus.
| Naumann's Thrush | Turdus naumanni.
| Red-legged Thrush | Turdus plumbeus.
| Swainson's Thrush | Catharus ustulatus.
| Varied Thrush | Ixoreus naevius.
| White-throated Thrush | Turdus assimilis.
| Wood Thrush | Hylocichla mustelina.
Tiger-Heron | Bare-throated Tiger-Heron | Tigrisoma mexicanum.
Titmouse | Black-crested Titmouse | Baeolophus atricristatus.
| Bridled Titmouse | Baeolophus wollweberi.
| Juniper Titmouse | Baeolophus ridgwayi.
| Oak Titmouse | Baeolophus inornatus.
| Tufted Titmouse | Baeolophus bicolor.
Tityra | Masked Tityra | Tityra semifasciata.
Towhee | Abert's Towhee | Melozone aberti.
| California Towhee | Melozone crissalis.
| Canyon Towhee | Melozone fusca.
| Eastern Towhee | Pipilo erythrophthalmus.
| Green-tailed Towhee | Pipilo chlorurus.
| Spotted Towhee | Pipilo maculatus.
Trogon | Elegant Trogon | Trogon elegans.
Tropicbird | Red-billed Tropicbird | Phaethon aethereus.
| Red-tailed Tropicbird | Phaethon rubricauda.
| White-tailed Tropicbird | Phaethon lepturus.
Turnstone | Black Turnstone | Arenaria melanocephala.
| Ruddy Turnstone | Arenaria interpres.
Turtle-Dove | Oriental Turtle-Dove | Streptopelia orientalis.
Veery | Veery | Catharus fuscescens.
Verdin | Verdin | Auriparus flaviceps.
Violetear | Mexican Violetear | Colibri thalassinus.
Vireo | Bell's Vireo | Vireo bellii.
| Black-capped Vireo | Vireo atricapilla.
| Black-whiskered Vireo | Vireo altiloquus.
| Blue-headed Vireo | Vireo solitarius.
| Cassin's Vireo | Vireo cassinii.
| Cuban Vireo | Vireo gundlachii.
| Gray Vireo | Vireo vicinior.
| Hutton's Vireo | Vireo huttoni.
| Philadelphia Vireo | Vireo philadelphicus.
| Plumbeous Vireo | Vireo plumbeus.
| Puerto Rican Vireo | Vireo latimeri.
| Red-eyed Vireo | Vireo olivaceus.
| Thick-billed Vireo | Vireo crassirostris.
| Warbling Vireo | Vireo gilvus.
| White-eyed Vireo | Vireo griseus.
| Yellow-green Vireo | Vireo flavoviridis.
| Yellow-throated Vireo | Vireo flavifrons.
| Yucatan Vireo | Vireo magister.
Vulture | Black Vulture | Coragyps atratus.
| Turkey Vulture | Cathartes aura.
Wagtail | Citrine Wagtail | Motacilla citreola.
| Eastern Yellow Wagtail | Motacilla tschutschensis.
| Gray Wagtail | Motacilla cinerea.
| White Wagtail | Motacilla alba.
Warbler | Adelaide's Warbler | Setophaga adelaidae.
| Aguiguan Reed Warbler | Acrocephalus nijoi.
| Arctic Warbler | Phylloscopus borealis.
| Bachman's Warbler | Vermivora bachmanii.
| Bay-breasted Warbler | Setophaga castanea.
| Black-and-white Warbler | Mniotilta varia.
| Blackburnian Warbler | Setophaga fusca.
| Blackpoll Warbler | Setophaga striata.
| Black-throated Blue Warbler | Setophaga caerulescens.
| Black-throated Gray Warbler | Setophaga nigrescens.
| Black-throated Green Warbler | Setophaga virens.
| Blue-winged Warbler | Vermivora cyanoptera.
| Blyth's Reed Warbler | Acrocephalus dumetorum.
| Canada Warbler | Cardellina canadensis.
| Cape May Warbler | Setophaga tigrina.
| Cerulean Warbler | Setophaga cerulea.
| Chestnut-sided Warbler | Setophaga pensylvanica.
| Colima Warbler | Leiothlypis crissalis.
| Connecticut Warbler | Oporornis agilis.
| Crescent-chested Warbler | Oreothlypis superciliosa.
| Dusky Warbler | Phylloscopus fuscatus.
| Elfin-woods Warbler | Setophaga angelae.
| Fan-tailed Warbler | Basileuterus lachrymosus.
| Golden-cheeked Warbler | Setophaga chrysoparia.
| Golden-crowned Warbler | Basileuterus culicivorus.
| Golden-winged Warbler | Vermivora chrysoptera.
| Grace's Warbler | Setophaga graciae.
| Hermit Warbler | Setophaga occidentalis.
| Hooded Warbler | Setophaga citrina.
| Kamchatka Leaf Warbler | Phylloscopus examinandus.
| Kentucky Warbler | Geothlypis formosa.
| Kirtland's Warbler | Setophaga kirtlandii.
| Lanceolated Warbler | Locustella lanceolata.
| Lucy's Warbler | Leiothlypis luciae.
| MacGillivray's Warbler | Geothlypis tolmiei.
| Magnolia Warbler | Setophaga magnolia.
| Middendorff's Grasshopper Warbler | Helopsaltes ochotensis.
| Mourning Warbler | Geothlypis philadelphia.
| Nashville Warbler | Leiothlypis ruficapilla.
| Nightingale Reed Warbler | Acrocephalus luscinius.
| Olive Warbler | Peucedramus taeniatus.
| Orange-crowned Warbler | Leiothlypis celata.
| Pagan Reed Warbler | Acrocephalus yamashinae.
| Pallas's Grasshopper Warbler | Helopsaltes certhiola.
| Pallas's Leaf Warbler | Phylloscopus proregulus.
| Palm Warbler | Setophaga palmarum.
| Pine Warbler | Setophaga pinus.
| Prairie Warbler | Setophaga discolor.
| Prothonotary Warbler | Protonotaria citrea.
| Red-faced Warbler | Cardellina rubrifrons.
| River Warbler | Locustella fluviatilis.
| Rufous-capped Warbler | Basileuterus rufifrons.
| Saipan Reed Warbler | Acrocephalus hiwae.
| Sedge Warbler | Acrocephalus schoenobaenus.
| Swainson's Warbler | Limnothlypis swainsonii.
| Tennessee Warbler | Leiothlypis peregrina.
| Thick-billed Warbler | Arundinax aedon.
| Townsend's Warbler | Setophaga townsendi.
| Virginia's Warbler | Leiothlypis virginiae.
| Willow Warbler | Phylloscopus trochilus.
| Wilson's Warbler | Cardellina pusilla.
| Wood Warbler | Phylloscopus sibilatrix.
| Worm-eating Warbler | Helmitheros vermivorum.
| Yellow Warbler | Setophaga petechia.
| Yellow-browed Warbler | Phylloscopus inornatus.
| Yellow-rumped Warbler | Setophaga coronata.
| Yellow-throated Warbler | Setophaga dominica.
Waterthrush | Louisiana Waterthrush | Parkesia motacilla.
| Northern Waterthrush | Parkesia noveboracensis.
Waxwing | Bohemian Waxwing | Bombycilla garrulus.
| Cedar Waxwing | Bombycilla cedrorum.
Wheatear | Northern Wheatear | Oenanthe oenanthe.
| Pied Wheatear | Oenanthe pleschanka.
Whimbrel | Whimbrel | Numenius phaeopus.
Whip-poor-will | Eastern Whip-poor-will | Antrostomus vociferus.
| Mexican Whip-poor-will | Antrostomus arizonae.
Whistling-Duck | Black-bellied Whistling-Duck | Dendrocygna autumnalis.
| Fulvous Whistling-Duck | Dendrocygna bicolor.
| West Indian Whistling-Duck | Dendrocygna arborea.
Whitethroat | Lesser Whitethroat | Sylvia curruca.
Wigeon | American Wigeon | Mareca americana.
| Eurasian Wigeon | Mareca penelope.
Willet | Willet | Tringa semipalmata.
Woodcock | American Woodcock | Scolopax minor.
| Eurasian Woodcock | Scolopax rusticola.
Woodpecker | Acorn Woodpecker | Melanerpes formicivorus.
| American Three-toed Woodpecker | Picoides dorsalis.
| Arizona Woodpecker | Dryobates arizonae.
| Black-backed Woodpecker | Picoides arcticus.
| Downy Woodpecker | Dryobates pubescens.
| Gila Woodpecker | Melanerpes uropygialis.
| Golden-fronted Woodpecker | Melanerpes aurifrons.
| Great Spotted Woodpecker | Dendrocopos major.
| Hairy Woodpecker | Dryobates villosus.
| Ivory-billed Woodpecker | Campephilus principalis.
| Ladder-backed Woodpecker | Dryobates scalaris.
| Lewis's Woodpecker | Melanerpes lewis.
| Nuttall's Woodpecker | Dryobates nuttallii.
| Pileated Woodpecker | Dryocopus pileatus.
| Puerto Rican Woodpecker | Melanerpes portoricensis.
| Red-bellied Woodpecker | Melanerpes carolinus.
| Red-cockaded Woodpecker | Dryobates borealis.
| Red-headed Woodpecker | Melanerpes erythrocephalus.
| White-headed Woodpecker | Dryobates albolarvatus.
Wood-Pewee | Eastern Wood-Pewee | Contopus virens.
| Western Wood-Pewee | Contopus sordidulus.
Wood-Rail | Rufous-necked Wood-Rail | Aramides axillaris.
Woodstar | Bahama Woodstar | Nesophlox evelynae.
Wren | Bewick's Wren | Thryomanes bewickii.
| Cactus Wren | Campylorhynchus brunneicapillus.
| Canyon Wren | Catherpes mexicanus.
| Carolina Wren | Thryothorus ludovicianus.
| House Wren | Troglodytes aedon.
| Marsh Wren | Cistothorus palustris.
| Pacific Wren | Troglodytes pacificus.
| Rock Wren | Salpinctes obsoletus.
| Sedge Wren | Cistothorus stellaris.
| Sinaloa Wren | Thryophilus sinaloa.
| Winter Wren | Troglodytes hiemalis.
Wrentit | Wrentit | Chamaea fasciata.
Wryneck | Eurasian Wryneck | Jynx torquilla.
Yellowlegs | Greater Yellowlegs | Tringa melanoleuca.
| Lesser Yellowlegs | Tringa flavipes.
Yellowthroat | Common Yellowthroat | Geothlypis trichas.
| Gray-crowned Yellowthroat | Geothlypis poliocephala.

(2) Taxonomic listing. The table lists species in phylogenetic sequence by scientific name, with the common (English) name following the scientific name. To help clarify species relationships, we also provide the higher-level taxonomic categories of Order, Family, and Subfamily.

Table 2 to Paragraph (c)(2)—Taxonomic Listing of Birds Protected by the Migratory Bird Treaty Act
Species scientific name | Species common name
(i) Order Anseriformes
Family Anatidae
(1) Subfamily Dendrocygninae
Dendrocygna autumnalis | Black-bellied Whistling-Duck.
Dendrocygna arborea | West Indian Whistling-Duck.
Dendrocygna bicolor | Fulvous Whistling-Duck.
(2) Subfamily Anserinae
Anser canagicus | Emperor Goose.
Anser caerulescens | Snow Goose.
Anser rossii | Ross's Goose.
Anser albifrons | Greater White-fronted Goose.
Anser erythropus | Lesser White-fronted Goose.
Anser fabalis | Taiga Bean-Goose.
Anser serrirostris | Tundra Bean-Goose.
Anser brachyrhynchus | Pink-footed Goose.
Branta bernicla | Brant.
Branta leucopsis | Barnacle Goose.
Branta hutchinsii | Cackling Goose.
Branta canadensis | Canada Goose.
Branta sandvicensis | Hawaiian Goose.
Cygnus buccinator | Trumpeter Swan.
Cygnus columbianus | Tundra Swan.
Cygnus cygnus | Whooper Swan.
(3) Subfamily Anatinae
Cairina moschata | Muscovy Duck.
Aix sponsa | Wood Duck.
Sibirionetta formosa | Baikal Teal.
Spatula querquedula | Garganey.
Spatula discors | Blue-winged Teal.
Spatula cyanoptera | Cinnamon Teal.
Spatula clypeata | Northern Shoveler.
Mareca strepera | Gadwall.
Mareca falcata | Falcated Duck.
Mareca penelope | Eurasian Wigeon.
Mareca americana | American Wigeon.
Anas laysanensis | Laysan Duck
Anas wyvilliana | Hawaiian Duck.
Anas zonorhyncha | Eastern Spot-billed Duck.
Anas platyrhynchos | Mallard.
Anas diazi | Mexican Duck.
Anas rubripes | American Black Duck.
Anas fulvigula | Mottled Duck.
Anas superciliosa | Pacific Black Duck.
Anas bahamensis | White-cheeked Pintail.
Anas acuta | Northern Pintail.
Anas crecca | Green-winged Teal.
Aythya valisineria | Canvasback.
Aythya americana | Redhead.
Aythya ferina | Common Pochard.
Aythya baeri | Baer's Pochard.
Aythya collaris | Ring-necked Duck.
Aythya fuligula | Tufted Duck.
Aythya marila | Greater Scaup.
Aythya affinis | Lesser Scaup.
Polysticta stelleri | Steller's Eider.
Somateria fischeri | Spectacled Eider.
Somateria spectabilis | King Eider.
Somateria mollissima | Common Eider.
Histrionicus histrionicus | Harlequin Duck.
Melanitta perspicillata | Surf Scoter.
Melanitta deglandi | White-winged Scoter.
Melanitta stejneger | Stejneger's Scoter.
Melanitta nigra | Common Scoter.
Melanitta americana | Black Scoter.
Clangula hyemalis | Long-tailed Duck.
Bucephala albeola | Bufflehead.
Bucephala clangula | Common Goldeneye.
Bucephala islandica | Barrow's Goldeneye.
Mergellus albellus | Smew.
Lophodytes cucullatus | Hooded Merganser.
Mergus merganser | Common Merganser.
Mergus serrator | Red-breasted Merganser.
Nomonyx dominicus | Masked Duck.
Oxyura jamaicensis | Ruddy Duck.
(ii) Order Phoenicopteriformes
Family Phoenicopteridae
Phoenicopterus ruber | American Flamingo.
(iii) Order Podicipediformes
Family Podicipedidae
Tachybaptus dominicus | Least Grebe.
Podilymbus podiceps | Pied-billed Grebe.
Podiceps auritus | Horned Grebe.
Podiceps grisegena | Red-necked Grebe.
Podiceps nigricollis | Eared Grebe.
Aechmophorus occidentalis | Western Grebe.
Aechmophorus clarkii | Clark's Grebe.
(iv) Order Columbiformes
Family Columbidae
Patagioenas squamosa | Scaly-naped Pigeon.
Patagioenas leucocephala | White-crowned Pigeon.
Patagioenas flavirostris | Red-billed Pigeon.
Patagioenas inornata | Plain Pigeon.
Patagioenas fasciata | Band-tailed Pigeon.
Streptopelia orientalis | Oriental Turtle-Dove.
Alopecoenas stairi | Shy Ground Dove.
Alopecoenas xanthonurus | White-throated Ground Dove.
Columbina inca | Inca Dove.
Columbina passerina | Common Ground Dove.
Columbina talpacoti | Ruddy Ground Dove.
Geotrygon montana | Ruddy Quail-Dove.
Geotrygon chrysia | Key West Quail-Dove.
Geotrygon mystacea | Bridled Quail-Dove.
Leptotila verreauxi | White-tipped Dove.
Zenaida asiatica | White-winged Dove.
Zenaida aurita | Zenaida Dove.
Zenaida macroura | Mourning Dove.
Ptilinopus perousii | Many-colored Fruit-Dove.
Ptilinopus porphyraceus | Crimson-crowned Fruit-Dove.
Ptilinopus roseicapilla | Mariana Fruit-Dove.
Ducula pacifica | Pacific Imperial-Pigeon.
(v) Order Cuculiformes
Family Cuculidae
(1) Subfamily Crotophaginae
Crotophaga ani | Smooth-billed Ani.
Crotophaga sulcirostris | Groove-billed Ani.
(2) Subfamily Neomorphinae
Geococcyx californianus | Greater Roadrunner.
(3) Subfamily Cuculinae
Urodynamis taitensis | Long-tailed Koel.
Hierococcyx nisicolor | Hodgson's Hawk-Cuckoo.
Cuculus canorus | Common Cuckoo.
Cuculus optatus | Oriental Cuckoo.
Clamator coromandus | Chestnut-winged Cuckoo.
Coccyzus melacoryphus | Dark-billed Cuckoo.
Coccyzus americanus | Yellow-billed Cuckoo.
Coccyzus minor | Mangrove Cuckoo.
Coccyzus erythropthalmus | Black-billed Cuckoo.
Coccyzus vieilloti | Puerto Rican Lizard-Cuckoo.
(vi) Order Caprimulgiformes
Family Caprimulgidae
(1) Subfamily Chordeilinae
Chordeiles acutipennis | Lesser Nighthawk.
Chordeiles minor | Common Nighthawk.
Chordeiles gundlachii | Antillean Nighthawk.
(2) Subfamily Caprimulginae
Nyctidromus albicollis | Common Pauraque.
Phalaenoptilus nuttallii | Common Poorwill.
Antrostomus carolinensis | Chuck-will's-widow.
Antrostomus ridgwayi | Buff-collared Nightjar.
Antrostomus vociferus | Eastern Whip-poor-will.
Antrostomus arizonae | Mexican Whip-poor-will.
Antrostomus noctitherus | Puerto Rican Nightjar.
Hydropsalis cayennensis | White-tailed Nightjar.
Caprimulgus jotaka | Gray Nightjar.
(vii) Order Apodiformes
(A) Family Apodidae
(1) Subfamily Cypseloidinae
Cypseloides niger | Black Swift.
Streptoprocne zonaris | White-collared Swift.
(2) Subfamily Chaeturinae
Chaetura pelagica | Chimney Swift.
Chaetura vauxi | Vaux's Swift.
Chaetura brachyura | Short-tailed Swift.
Hirundapus caudacutus | White-throated Needletail.
Aerodramus spodiopygius | White-rumped Swiftlet.
Aerodramus bartschi | Mariana Swiftlet.
(3) Subfamily Apodinae
Apus apus | Common Swift.
Apus pacificus | Fork-tailed Swift.
Apus melba | Alpine Swift.
Aeronautes saxatalis | White-throated Swift.
Tachornis phoenicobia | Antillean Palm-Swift.
(B) Family Trochilidae
Subfamily Trochilinae
Colibri thalassinus | Mexican Violetear.
Anthracothorax prevostii | Green-breasted Mango.
Anthracothorax aurulentus | Puerto Rican Mango.
Anthracothorax viridis | Green Mango.
Eulampis jugularis | Purple-throated Carib.
Eulampis holosericeus | Green-throated Carib.
Eugenes fulgens | Rivoli's Hummingbird.
Heliomaster constantii | Plain-capped Starthroat.
Lampornis amethystinus | Amethyst-throated Mountain-gem.
Lampornis clemenciae | Blue-throated Mountain-gem.
Calothorax lucifer | Lucifer Hummingbird.
Archilochus colubris | Ruby-throated Hummingbird.
Archilochus alexandri | Black-chinned Hummingbird.
Mellisuga minima | Vervain Hummingbird.
Nesophlox evelynae | Bahama Woodstar.
Calypte anna | Anna's Hummingbird.
Calypte costae | Costa's Hummingbird.
Selasphorus calliope | Calliope Hummingbird.
Selasphorus rufus | Rufous Hummingbird.
Selasphorus sasin | Allen's Hummingbird.
Selasphorus platycercus | Broad-tailed Hummingbird.
Selasphorus heloisa | Bumblebee Hummingbird.
Riccordia maugaeus | Puerto Rican Emerald.
Cynanthus latirostris | Broad-billed Hummingbird.
Basilinna leucotis | White-eared Hummingbird.
Basilinna xantusii | Xantus's Hummingbird.
Orthorhyncus cristatus | Antillean Crested Hummingbird.
Ramosomyia violiceps | Violet-crowned Hummingbird.
Saucerottia beryllina | Berylline Hummingbird.
Amazilia rutila | Cinnamon Hummingbird.
Amazilia yucatanensis | Buff-bellied Hummingbird.
(viii) Order Gruiformes
(A) Family Rallidae
Gallirallus philippensis | Buff-banded Rail.
Gallirallus owstoni | Guam Rail.
Neocrex erythrops | Paint-billed Crake.
Pardirallus maculatus | Spotted Rail.
Aramides axillaris | Rufous-necked Wood-Rail.
Rallus obsoletus | Ridgway's Rail.
Rallus elegans | King Rail.
Rallus crepitans | Clapper Rail.
Rallus limicola | Virginia Rail.
Crex crex | Corn Crake.
Porzana carolina | Sora.
Gallinula galeata | Common Gallinule.
Gallinula chloropus | Eurasian Moorhen.
Fulica atra | Eurasian Coot.
Fulica alai | Hawaiian Coot.
Fulica americana | American Coot.
Porphyrio martinicus | Purple Gallinule.
Porphyrio flavirostris | Azure Gallinule.
Porphyrio porphyrio | Purple Swamphen.
Porzana tabuensis | Spotless Crake.
Coturnicops noveboracensis | Yellow Rail.
Hapalocrex flaviventer | Yellow-breasted Crake.
Laterallus jamaicensis | Black Rail.
(B) Family Aramidae
Aramus guarauna | Limpkin.
(C) Family Gruidae
Subfamily Gruinae
Antigone canadensis | Sandhill Crane.
Grus grus | Common Crane.
Grus monacha | Hooded Crane.
Grus americana | Whooping Crane.
(ix) Order Charadriiformes
(A) Family Recurvirostridae
Himantopus himantopus | Black-winged Stilt.
Himantopus mexicanus | Black-necked Stilt.
Recurvirostra americana | American Avocet.
(B) Family Haematopodidae
Haematopus ostralegus | Eurasian Oystercatcher.
Haematopus palliatus | American Oystercatcher.
Haematopus bachmani | Black Oystercatcher.
(C) Family Charadriidae
(1) Subfamily Vanellinae
Vanellus vanellus | Northern Lapwing.
(2) Subfamily Charadriinae
Pluvialis squatarola | Black-bellied Plover.
Pluvialis apricaria | European Golden-Plover.
Pluvialis dominica | American Golden-Plover.
Pluvialis fulva | Pacific Golden-Plover.
Charadrius morinellus | Eurasian Dotterel.
Charadrius vociferus | Killdeer.
Charadrius hiaticula | Common Ringed Plover.
Charadrius semipalmatus | Semipalmated Plover.
Charadrius melodus | Piping Plover.
Charadrius dubius | Little Ringed Plover.
Charadrius mongolus | Lesser Sand-Plover.
Charadrius leschenaultii | Greater Sand-Plover.
Charadrius wilsonia | Wilson's Plover.
Charadrius collaris | Collared Plover.
Charadrius alexandrinus | Kentish Plover.
Charadrius montanus | Mountain Plover.
Charadrius nivosus | Snowy Plover.
(D) Family Jacanidae
Jacana spinosa | Northern Jacana.
(E) Family Scolopacidae
(1) Subfamily Numeniinae
Bartramia longicauda | Upland Sandpiper.
Numenius tahitiensis | Bristle-thighed Curlew.
Numenius phaeopus | Whimbrel.
Numenius minutus | Little Curlew.
Numenius borealis | Eskimo Curlew.
Numenius americanus | Long-billed Curlew.
Numenius madagascariensis | Far Eastern Curlew.
Numenius arquata | Eurasian Curlew.
(2) Subfamily Limosinae
Limosa lapponica | Bar-tailed Godwit.
Limosa limosa | Black-tailed Godwit.
Limosa haemastica | Hudsonian Godwit.
Limosa fedoa | Marbled Godwit.
(3) Subfamily Arenariinae
Arenaria interpres | Ruddy Turnstone.
Arenaria melanocephala | Black Turnstone.
Calidris tenuirostris | Great Knot.
Calidris canutus | Red Knot.
Calidris virgata | Surfbird.
Calidris pugnax | Ruff.
Calidris falcinellus | Broad-billed Sandpiper.
Calidris acuminata | Sharp-tailed Sandpiper.
Calidris himantopus | Stilt Sandpiper.
Calidris ferruginea | Curlew Sandpiper.
Calidris temminckii | Temminck's Stint.
Calidris subminuta | Long-toed Stint.
Calidris pygmea | Spoon-billed Sandpiper.
Calidris ruficollis | Red-necked Stint.
Calidris alba | Sanderling.
Calidris alpina | Dunlin.
Calidris ptilocnemis | Rock Sandpiper.
Calidris maritima | Purple Sandpiper.
Calidris bairdii | Baird's Sandpiper.
Calidris minuta | Little Stint.
Calidris minutilla | Least Sandpiper.
Calidris fuscicollis | White-rumped Sandpiper.
Calidris subruficollis | Buff-breasted Sandpiper.
Calidris melanotos | Pectoral Sandpiper.
Calidris pusilla | Semipalmated Sandpiper.
Calidris mauri | Western Sandpiper.
(4) Subfamily Scolopacinae
Limnodromus griseus | Short-billed Dowitcher.
Limnodromus scolopaceus | Long-billed Dowitcher.
Lymnocryptes minimus | Jack Snipe.
Scolopax rusticola | Eurasian Woodcock.
Scolopax minor | American Woodcock.
Gallinago solitaria | Solitary Snipe.
Gallinago stenura | Pin-tailed Snipe.
Gallinago megala | Swinhoe's Snipe.
Gallinago gallinago | Common Snipe.
Gallinago delicata | Wilson's Snipe.
(5) Subfamily Tringinae
Xenus cinereus | Terek Sandpiper.
Actitis hypoleucos | Common Sandpiper.
Actitis macularius | Spotted Sandpiper.
Tringa ochropus | Green Sandpiper.
Tringa solitaria | Solitary Sandpiper.
Tringa brevipes | Gray-tailed Tattler.
Tringa incana | Wandering Tattler.
Tringa flavipes | Lesser Yellowlegs.
Tringa semipalmata | Willet.
Tringa erythropus | Spotted Redshank.
Tringa nebularia | Common Greenshank.
Tringa guttifer | Nordmann's Greenshank.
Tringa melanoleuca | Greater Yellowlegs.
Tringa totanus | Common Redshank.
Tringa glareola | Wood Sandpiper.
Tringa stagnatilis | Marsh Sandpiper.
Phalaropus tricolor | Wilson's Phalarope.
Phalaropus lobatus | Red-necked Phalarope.
Phalaropus fulicarius | Red Phalarope.
(F) Family Stercorariidae
Stercorarius skua | Great Skua.
Stercorarius maccormicki | South Polar Skua.
Stercorarius pomarinus | Pomarine Jaeger.
Stercorarius parasiticus | Parasitic Jaeger.
Stercorarius longicaudus | Long-tailed Jaeger.
(G) Family Alcidae
Alle alle | Dovekie.
Uria aalge | Common Murre.
Uria lomvia | Thick-billed Murre.
Alca torda | Razorbill.
Cepphus grylle | Black Guillemot.
Cepphus columba | Pigeon Guillemot.
Brachyramphus perdix | Long-billed Murrelet.
Brachyramphus marmoratus | Marbled Murrelet
Brachyramphus brevirostris | Kittlitz's Murrelet.
Synthliboramphus scrippsi | Scripps's Murrelet.
Synthliboramphus hypoleucus | Guadalupe Murrelet.
Synthliboramphus craveri | Craveri's Murrelet.
Synthliboramphus antiquus | Ancient Murrelet.
Ptychoramphus aleuticus | Cassin's Auklet.
Aethia psittacula | Parakeet Auklet.
Aethia pusilla | Least Auklet.
Aethia pygmaea | Whiskered Auklet.
Aethia cristatella | Crested Auklet.
Cerorhinca monocerata | Rhinoceros Auklet.
Fratercula arctica | Atlantic Puffin.
Fratercula corniculata | Horned Puffin.
Fratercula cirrhata | Tufted Puffin.
(H) Family Laridae
(1) Subfamily Larinae
Creagrus furcatus | Swallow-tailed Gull.
Rissa tridactyla | Black-legged Kittiwake.
Rissa brevirostris | Red-legged Kittiwake.
Pagophila eburnea | Ivory Gull.
Xema sabini | Sabine's Gull.
Chroicocephalus philadelphia | Bonaparte's Gull.
Chroicocephalus cirrocephalus | Gray-hooded Gull.
Chroicocephalus ridibundus | Black-headed Gull.
Hydrocoloeus minutus | Little Gull.
Rhodostethia rosea | Ross's Gull.
Leucophaeus atricilla | Laughing Gull.
Leucophaeus pipixcan | Franklin's Gull.
Ichthyaetus ichthyaetus | Pallas's Gull.
Larus belcheri | Belcher's Gull.
Larus crassirostris | Black-tailed Gull.
Larus heermanni | Heermann's Gull.
Larus canus | Common Gull.
Larus brachyrhynchus | Short-billed Gull.
Larus delawarensis | Ring-billed Gull.
Larus occidentalis | Western Gull.
Larus livens | Yellow-footed Gull.
Larus californicus | California Gull.
Larus argentatus | Herring Gull.
Larus michahellis | Yellow-legged Gull.
Larus glaucoides | Iceland Gull.
Larus fuscus | Lesser Black-backed Gull.
Larus schistisagus | Slaty-backed Gull.
Larus glaucescens | Glaucous-winged Gull.
Larus hyperboreus | Glaucous Gull.
Larus marinus | Great Black-backed Gull.
Larus dominicanus | Kelp Gull.
(2) Subfamily Sterninae
Anous stolidus | Brown Noddy.
Anous minutus | Black Noddy.
Anous ceruleus | Blue-gray Noddy.
Gygis alba | White Tern.
Onychoprion fuscatus | Sooty Tern.
Onychoprion lunatus | Gray-backed Tern.
Onychoprion anaethetus | Bridled Tern.
Onychoprion aleuticus | Aleutian Tern.
Sternula albifrons | Little Tern.
Sternula antillarum | Least Tern.
Phaetusa simplex | Large-billed Tern.
Gelochelidon nilotica | Gull-billed Tern.
Hydroprogne caspia | Caspian Tern.
Larosterna inca | Inca Tern.
Chlidonias niger | Black Tern.
Chlidonias leucopterus | White-winged Tern.
Chlidonias hybrida | Whiskered Tern.
Sterna dougallii | Roseate Tern.
Sterna sumatrana | Black-naped Tern.
Sterna hirundo | Common Tern.
Sterna paradisaea | Arctic Tern.
Sterna forsteri | Forster's Tern.
Thalasseus maximus | Royal Tern.
Thalasseus bergii | Great Crested Tern.
Thalasseus sandvicensis | Sandwich Tern.
Thalasseus elegans | Elegant Tern.
(3) Subfamily Rynchopinae
Rynchops niger | Black Skimmer.
(x) Order Phaethontiformes
Family Phaethontidae
Phaethon lepturus | White-tailed Tropicbird.
Phaethon aethereus | Red-billed Tropicbird.
Phaethon rubricauda | Red-tailed Tropicbird.
(xi) Order Gaviiformes
Family Gaviidae
Gavia stellata | Red-throated Loon.
Gavia arctica | Arctic Loon.
Gavia pacifica | Pacific Loon.
Gavia immer | Common Loon.
Gavia adamsii | Yellow-billed Loon.
(xii) Order Procellariiformes
(A) Family Diomedeidae
Thalassarche chlororhynchos | Yellow-nosed Albatross.
Thalassarche cauta | White-capped Albatross.
Thalassarche eremita | Chatham Albatross.
Thalassarche salvini | Salvin's Albatross.
Thalassarche melanophris | Black-browed Albatross.
Phoebetria palpebrata | Light-mantled Albatross.
Diomedea exulans | Wandering Albatross.
Phoebastria immutabilis | Laysan Albatross.
Phoebastria nigripes | Black-footed Albatross.
Phoebastria albatrus | Short-tailed Albatross.
(B) Family Oceanitidae
Family Phaethontidae
Oceanites oceanicus | Wilson's Storm-Petrel.
Pelagodroma marina | White-faced Storm-Petrel.
Fregetta grallaria | White-bellied Storm-Petrel.
Fregetta tropica | Black-bellied Storm-Petrel.
Nesofregetta fuliginosa | Polynesian Storm-Petrel.
(C) Family Hydrobatidae
Hydrobates pelagicus | European Storm-Petrel.
Hydrobates furcatus | Fork-tailed Storm-Petrel.
Hydrobates hornbyi | Ringed Storm-Petrel.
Hydrobates monorhis | Swinhoe's Storm-Petrel.
Hydrobates leucorhous | Leach's Storm-Petrel.
Hydrobates socorroensis | Townsend's Storm-Petrel.
Hydrobates homochroa | Ashy Storm-Petrel.
Hydrobates castro | Band-rumped Storm-Petrel.
Hydrobates tethys | Wedge-rumped Storm-Petrel.
Hydrobates melania | Black Storm-Petrel.
Hydrobates matsudairae | Matsudaira's Storm-Petrel.
Hydrobates tristrami | Tristram's Storm-Petrel.
Hydrobates microsoma | Least Storm-Petrel.
(D) Family Procellariidae
Macronectes halli | Northern Giant-Petrel.
Fulmarus glacialis | Northern Fulmar.
Pterodroma gouldi | Gray-faced Petrel.
Pterodroma solandri | Providence Petrel.
Pterodroma neglecta | Kermadec Petrel.
Pterodroma arminjoniana | Trindade Petrel.
Pterodroma heraldica | Herald Petrel.
Pterodroma ultima | Murphy's Petrel.
Pterodroma inexpectata | Mottled Petrel.
Pterodroma cahow | Bermuda Petrel.
Pterodroma hasitata | Black-capped Petrel.
Pterodroma externa | Juan Fernandez Petrel.
Pterodroma sandwichensis | Hawaiian Petrel.
Pterodroma cervicalis | White-necked Petrel.
Pterodroma hypoleuca | Bonin Petrel.
Pterodroma nigripennis | Black-winged Petrel.
Pterodroma feae | Fea's Petrel.
Pterodroma madeira | Zino's Petrel.
Pterodroma cookii | Cook's Petrel.
Pterodroma leucoptera | Gould's Petrel.
Pterodroma longirostris | Stejneger's Petrel.
Pterodroma alba | Phoenix Petrel.
Pseudobulweria rostrata | Tahiti Petrel.
Bulweria bulwerii | Bulwer's Petrel.
Bulweria fallax | Jouanin's Petrel.
Procellaria aequinoctialis | White-chinned Petrel.
Procellaria parkinsoni | Parkinson's Petrel.
Calonectris leucomelas | Streaked Shearwater.
Calonectris diomedea | Cory's Shearwater.
Calonectris edwardsii | Cape Verde Shearwater.
Ardenna pacifica | Wedge-tailed Shearwater.
Ardenna bulleri | Buller's Shearwater.
Ardenna tenuirostris | Short-tailed Shearwater.
Ardenna grisea | Sooty Shearwater.
Ardenna gravis | Great Shearwater.
Ardenna creatopus | Pink-footed Shearwater.
Ardenna carneipes | Flesh-footed Shearwater.
Puffinus nativitatis | Christmas Shearwater.
Puffinus puffinus | Manx Shearwater.
Puffinus newelli | Newell's Shearwater.
Puffinus bryani | Bryan's Shearwater.
Puffinus opisthomelas | Black-vented Shearwater.
Puffinus lherminieri | Audubon's Shearwater.
Puffinus baroli | Barolo Shearwater.
(xiii) Order Ciconiiformes
Family Ciconiidae
Jabiru mycteria | Jabiru.
Mycteria americana | Wood Stork.
(xiv) Order Suliformes
(A) Family Fregatidae
Fregata ariel | Lesser Frigatebird.
Fregata magnificens | Magnificent Frigatebird.
Fregata minor | Great Frigatebird.
(B) Family Sulidae
Sula dactylatra | Masked Booby.
Sula granti | Nazca Booby.
Sula nebouxii | Blue-footed Booby.
Sula leucogaster | Brown Booby.
Sula sula | Red-footed Booby.
Papasula abbotti | Abbott's Booby.
Morus bassanus | Northern Gannet.
(C) Family Anhingidae
Anhinga anhinga | Anhinga.
(D) Family Phalacrocoracidae
Microcarbo melanoleucos | Little Pied Cormorant.
Urile penicillatus | Brandt's Cormorant.
Urile urile | Red-faced Cormorant.
Urile pelagicus | Pelagic Cormorant.
Phalacrocorax carbo | Great Cormorant.
Nannopterum auritum | Double-crested Cormorant.
Nannopterum brasilianum | Neotropic Cormorant.
(xv) Order Pelecaniformes
(A) Family Pelecanidae
Pelecanus erythrorhynchos | American White Pelican.
Pelecanus occidentalis | Brown Pelican.
(B) Family Ardeidae
Botaurus lentiginosus | American Bittern.
Ixobrychus sinensis | Yellow Bittern.
Ixobrychus exilis | Least Bittern.
Ixobrychus eurhythmus | Schrenck's Bittern.
Ixobrychus flavicollis | Black Bittern.
Tigrisoma mexicanum | Bare-throated Tiger-Heron.
Ardea herodias | Great Blue Heron.
Ardea cinerea | Gray Heron.
Ardea alba | Great Egret.
Ardea intermedia | Intermediate Egret.
Egretta eulophotes | Chinese Egret.
Egretta garzetta | Little Egret.
Egretta sacra | Pacific Reef-Heron.
Egretta gularis | Western Reef-Heron.
Egretta thula | Snowy Egret.
Egretta caerulea | Little Blue Heron.
Egretta tricolor | Tricolored Heron.
Egretta rufescens | Reddish Egret.
Bubulcus ibis | Cattle Egret.
Ardeola bacchus | Chinese Pond-Heron.
Butorides virescens | Green Heron.
Nycticorax nycticorax | Black-crowned Night-Heron.
Nycticorax caledonicus | Nankeen Night-Heron.
Nyctanassa violacea | Yellow-crowned Night-Heron.
Gorsachius goisagi | Japanese Night-Heron.
Gorsachius melanolophus | Malayan Night-Heron.
(C) Family Threskiornithidae
(1) Subfamily Threskiornithinae
Eudocimus albus | White Ibis.
Eudocimus ruber | Scarlet Ibis.
Plegadis falcinellus | Glossy Ibis.
Plegadis chihi | White-faced Ibis.
(2) Subfamily Plataleinae
Platalea ajaja | Roseate Spoonbill.
(xvi) Order Carthartiformes
Family Cathartidae
Gymnogyps californianus | California Condor.
Coragyps atratus | Black Vulture.
Cathartes aura | Turkey Vulture.
(xvii) Order Accipitriformes
(A) Family Pandionidae
Pandion haliaetus | Osprey.
(B) Family Accipitridae
(1) Subfamily Elaninae
Elanus leucurus | White-tailed Kite.
(2) Subfamily Gypaetinae
Chondrohierax uncinatus | Hook-billed Kite.
Elanoides forficatus | Swallow-tailed Kite.
(3) Subfamily Accipitrinae
Aquila chrysaetos | Golden Eagle.
Harpagus bidentatus | Double-toothed Kite.
Circus hudsonius | Northern Harrier.
Circus spilonotus | Eastern Marsh-Harrier.
Accipiter soloensis | Chinese Sparrowhawk.
Accipiter gularis | Japanese Sparrowhawk.
Accipiter striatus | Sharp-shinned Hawk.
Accipiter cooperii | Cooper's Hawk.
Accipiter gentilis | Northern Goshawk.
Milvus migrans | Black Kite.
Haliaeetus leucocephalus | Bald Eagle.
Haliaeetus albicilla | White-tailed Eagle.
Haliaeetus pelagicus | Steller's Sea-Eagle.
Ictinia mississippiensis | Mississippi Kite.
Butastur indicus | Gray-faced Buzzard.
Geranospiza caerulescens | Crane Hawk.
Rostrhamus sociabilis | Snail Kite.
Buteogallus anthracinus | Common Black Hawk.
Buteogallus urubitinga | Great Black Hawk.
Rupornis magnirostris | Roadside Hawk.
Parabuteo unicinctus | Harris's Hawk.
Geranoaetus albicaudatus | White-tailed Hawk.
Buteo plagiatus | Gray Hawk.
Buteo lineatus | Red-shouldered Hawk.
Buteo platypterus | Broad-winged Hawk.
Buteo solitarius | Hawaiian Hawk.
Buteo brachyurus | Short-tailed Hawk.
Buteo swainsoni | Swainson's Hawk.
Buteo albonotatus | Zone-tailed Hawk.
Buteo jamaicensis | Red-tailed Hawk.
Buteo lagopus | Rough-legged Hawk.
Buteo regalis | Ferruginous Hawk.
Buteo rufinus | Long-legged Buzzard.
(xviii) Order Strigiformes
(A) Family Tytonidae
Tyto alba | Barn Owl.
(B) Family Strigidae
Otus sunia | Oriental Scops-Owl.
Psiloscops flammeolus | Flammulated Owl.
Gymnasio nudipes | Puerto Rican Owl.
Megascops trichopsis | Whiskered Screech-Owl.
Megascops kennicottii | Western Screech-Owl.
Megascops asio | Eastern Screech-Owl.
Bubo virginianus | Great Horned Owl.
Bubo scandiacus | Snowy Owl.
Surnia ulula | Northern Hawk Owl.
Glaucidium gnoma | Northern Pygmy-Owl.
Glaucidium brasilianum | Ferruginous Pygmy-Owl.
Micrathene whitneyi | Elf Owl.
Athene cunicularia | Burrowing Owl.
Strix occidentalis | Spotted Owl.
Strix varia | Barred Owl.
Strix virgata | Mottled Owl.
Strix nebulosa | Great Gray Owl.
Asio otus | Long-eared Owl.
Asio stygius | Stygian Owl.
Asio flammeus | Short-eared Owl.
Aegolius funereus | Boreal Owl.
Aegolius acadicus | Northern Saw-whet Owl.
Ninox japonica | Northern Boobook.
(xix) Order Trogoniformes
Family Trogonidae
Subfamily Trogoninae
Trogon elegans | Elegant Trogon.
Euptilotis neoxenus | Eared Quetzal.
(xx) Order Upupiformes
Family Upupidae
Upupa epops | Eurasian Hoopoe.
(xxi) Order Coraciiformes
Family Alcedinidae
(1) Subfamily Alcedininae
Alcedo atthis | Common Kingfisher.
(2) Subfamily Halcyoninae
Todiramphus sacer | Pacific Kingfisher.
Todiramphus cinnamominus | Guam Kingfisher.
Todiramphus albicilla | Mariana Kingfisher.
(3) Subfamily Cerylinae
Megaceryle torquata | Ringed Kingfisher.
Megaceryle alcyon | Belted Kingfisher.
Chloroceryle amazona | Amazon Kingfisher.
Chloroceryle americana | Green Kingfisher.
(xxii) Order Piciformes
Family Picidae
(1) Subfamily Jynginae
Jynx torquilla | Eurasian Wryneck.
(2) Subfamily Picinae
Melanerpes lewis | Lewis's Woodpecker.
Melanerpes portoricensis | Puerto Rican Woodpecker.
Melanerpes erythrocephalus | Red-headed Woodpecker.
Melanerpes formicivorus | Acorn Woodpecker.
Melanerpes uropygialis | Gila Woodpecker.
Melanerpes aurifrons | Golden-fronted Woodpecker.
Melanerpes carolinus | Red-bellied Woodpecker.
Sphyrapicus thyroideus | Williamson's Sapsucker.
Sphyrapicus varius | Yellow-bellied Sapsucker.
Sphyrapicus nuchalis | Red-naped Sapsucker.
Sphyrapicus ruber | Red-breasted Sapsucker.
Picoides dorsalis | American Three-toed Woodpecker.
Picoides arcticus | Black-backed Woodpecker.
Dendrocopos major | Great Spotted Woodpecker.
Dryobates pubescens | Downy Woodpecker.
Dryobates nuttallii | Nuttall's Woodpecker.
Dryobates scalaris | Ladder-backed Woodpecker.
Dryobates borealis | Red-cockaded Woodpecker.
Dryobates villosus | Hairy Woodpecker.
Dryobates albolarvatus | White-headed Woodpecker.
Dryobates arizonae | Arizona Woodpecker.
Colaptes auratus | Northern Flicker.
Colaptes chrysoides | Gilded Flicker.
Dryocopus pileatus | Pileated Woodpecker.
Campephilus principalis | Ivory-billed Woodpecker.
(xxiii) Order Falconiformes
Family Falconidae
(1) Subfamily Herpetotherinae
Micrastur semitorquatus | Collared Forest-Falcon.
(2) Subfamily Falconinae
Caracara plancus | Crested Caracara.
Falco tinnunculus | Eurasian Kestrel.
Falco sparverius | American Kestrel.
Falco vespertinus | Red-footed Falcon.
Falco amurensis | Amur Falcon.
Falco columbarius | Merlin.
Falco subbuteo | Eurasian Hobby.
Falco femoralis | Aplomado Falcon.
Falco rusticolus | Gyrfalcon.
Falco peregrinus | Peregrine Falcon.
Falco mexicanus | Prairie Falcon.
(xxiv) Order Passeriformes
(A) Family Tityridae
Tityra semifasciata | Masked Tityra.
Pachyramphus major | Gray-collared Becard.
Pachyramphus aglaiae | Rose-throated Becard.
(B) Family Tyrannidae
(1) Subfamily Elaeniinae
Camptostoma imberbe | Northern Beardless-Tyrannulet.
Myiopagis viridicata | Greenish Elaenia.
Elaenia martinica | Caribbean Elaenia.
Elaenia albiceps | White-crested Elaenia.
Elaenia parvirostris | Small-billed Elaenia.
(2) Subfamily Tyranninae
Myiarchus tuberculifer | Dusky-capped Flycatcher.
Myiarchus cinerascens | Ash-throated Flycatcher.
Myiarchus nuttingi | Nutting's Flycatcher.
Myiarchus crinitus | Great Crested Flycatcher.
Myiarchus tyrannulus | Brown-crested Flycatcher.
Myiarchus sagrae | La Sagra's Flycatcher.
Myiarchus antillarum | Puerto Rican Flycatcher.
Pitangus sulphuratus | Great Kiskadee.
Myiozetetes similis | Social Flycatcher.
Myiodynastes luteiventris | Sulphur-bellied Flycatcher.
Legatus leucophaius | Piratic Flycatcher.
Empidonomus varius | Variegated Flycatcher.
Empidonomus aurantioatrocristatus | Crowned Slaty Flycatcher.
Tyrannus melancholicus | Tropical Kingbird.
Tyrannus couchii | Couch's Kingbird.
Tyrannus vociferans | Cassin's Kingbird.
Tyrannus crassirostris | Thick-billed Kingbird.
Tyrannus verticalis | Western Kingbird.
Tyrannus tyrannus | Eastern Kingbird.
Tyrannus dominicensis | Gray Kingbird.
Tyrannus caudifasciatus | Loggerhead Kingbird.
Tyrannus forficatus | Scissor-tailed Flycatcher.
Tyrannus savana | Fork-tailed Flycatcher.
(3) Subfamily Fluvicolinae
Mitrephanes phaeocercus | Tufted Flycatcher.
Contopus cooperi | Olive-sided Flycatcher.
Contopus pertinax | Greater Pewee.
Contopus sordidulus | Western Wood-Pewee.
Contopus virens | Eastern Wood-Pewee.
Contopus caribaeus | Cuban Pewee.
Contopus hispaniolensis | Hispaniolan Pewee.
Contopus latirostris | Lesser Antillean Pewee.
Empidonax flaviventris | Yellow-bellied Flycatcher.
Empidonax virescens | Acadian Flycatcher.
Empidonax alnorum | Alder Flycatcher.
Empidonax traillii | Willow Flycatcher.
Empidonax minimus | Least Flycatcher.
Empidonax hammondii | Hammond's Flycatcher.
Empidonax wrightii | Gray Flycatcher.
Empidonax oberholseri | Dusky Flycatcher.
Empidonax affinis | Pine Flycatcher.
Empidonax difficilis | Pacific-slope Flycatcher.
Empidonax occidentalis | Cordilleran Flycatcher.
Empidonax fulvifrons | Buff-breasted Flycatcher.
Sayornis nigricans | Black Phoebe.
Sayornis phoebe | Eastern Phoebe.
Sayornis saya | Say's Phoebe.
Pyrocephalus rubinus | Vermilion Flycatcher.
(C) Family Vireonidae
Vireo atricapilla | Black-capped Vireo.
Vireo griseus | White-eyed Vireo.
Vireo crassirostris | Thick-billed Vireo.
Vireo gundlachii | Cuban Vireo.
Vireo latimeri | Puerto Rican Vireo.
Vireo bellii | Bell's Vireo.
Vireo vicinior | Gray Vireo.
Vireo huttoni | Hutton's Vireo.
Vireo flavifrons | Yellow-throated Vireo.
Vireo cassinii | Cassin's Vireo.
Vireo solitarius | Blue-headed Vireo.
Vireo plumbeus | Plumbeous Vireo.
Vireo philadelphicus | Philadelphia Vireo.
Vireo gilvus | Warbling Vireo.
Vireo olivaceus | Red-eyed Vireo.
Vireo flavoviridis | Yellow-green Vireo.
Vireo altiloquus | Black-whiskered Vireo.
Vireo magister | Yucatan Vireo.
(D) Family Laniidae
Lanius cristatus | Brown Shrike.
Lanius ludovicianus | Loggerhead Shrike.
Lanius borealis | Northern Shrike.
(E) Family Corvidae
Perisoreus canadensis | Canada Jay.
Psilorhinus morio | Brown Jay.
Cyanocorax yncas | Green Jay.
Gymnorhinus cyanocephalus | Pinyon Jay.
Cyanocitta stelleri | Steller's Jay.
Cyanocitta cristata | Blue Jay.
Aphelocoma coerulescens | Florida Scrub-Jay.
Aphelocoma insularis | Island Scrub-Jay.
Aphelocoma californica | California Scrub-Jay.
Aphelocoma woodhouseii | Woodhouse's Scrub-Jay.
Aphelocoma wollweberi | Mexican Jay.
Nucifraga columbiana | Clark's Nutcracker.
Pica hudsonia | Black-billed Magpie.
Pica nuttalli | Yellow-billed Magpie.
Corvus monedula | Eurasian Jackdaw.
Corvus kubaryi | Mariana Crow.
Corvus brachyrhynchos | American Crow.
Corvus leucognaphalus | White-necked Crow.
Corvus imparatus | Tamaulipas Crow.
Corvus ossifragus | Fish Crow.
Corvus hawaiiensis | Hawaiian Crow.
Corvus cryptoleucus | Chihuahuan Raven.
Corvus corax | Common Raven.
(F) Family Remizidae
Auriparus flaviceps | Verdin.
(G) Family Paridae
Poecile carolinensis | Carolina Chickadee.
Poecile atricapillus | Black-capped Chickadee.
Poecile gambeli | Mountain Chickadee.
Poecile sclateri | Mexican Chickadee.
Poecile rufescens | Chestnut-backed Chickadee.
Poecile hudsonicus | Boreal Chickadee.
Poecile cinctus | Gray-headed Chickadee.
Baeolophus wollweberi | Bridled Titmouse.
Baeolophus inornatus | Oak Titmouse.
Baeolophus ridgwayi | Juniper Titmouse.
Baeolophus bicolor | Tufted Titmouse.
Baeolophus atricristatus | Black-crested Titmouse.
(H) Family Alaudidae
Alauda arvensis | Eurasian Skylark.
Eremophila alpestris | Horned Lark.
(I) Family Acrocephalidae
Arundinax aedon | Thick-billed Warbler.
Acrocephalus luscinius | Nightingale Reed Warbler.
Acrocephalus hiwae | Saipan Reed Warbler.
Acrocephalus nijoi | Aguiguan Reed Warbler.
Acrocephalus yamashinae | Pagan Reed Warbler.
Acrocephalus familiaris | Millerbird.
Acrocephalus schoenobaenus | Sedge Warbler.
Acrocephalus dumetorum | Blyth's Reed Warbler.
(J) Family Locustellidae
Helopsaltes certhiola | Pallas's Grasshopper Warbler.
Helopsaltes ochotensis | Middendorff's Grasshopper Warbler.
Locustella lanceolata | Lanceolated Warbler.
Locustella fluviatilis | River Warbler.
(K) Family Hirundinidae
Subfamily Hirundininae
Riparia riparia | Bank Swallow.
Tachycineta bicolor | Tree Swallow.
Tachycineta cyaneoviridis | Bahama Swallow.
Tachycineta thalassina | Violet-green Swallow.
Tachycineta albilinea | Mangrove Swallow.
Pygochelidon cyanoleuca | Blue-and-white Swallow.
Stelgidopteryx serripennis | Northern Rough-winged Swallow.
Progne tapera | Brown-chested Martin.
Progne subis | Purple Martin.
Progne elegans | Southern Martin.
Progne chalybea | Gray-breasted Martin.
Progne cryptoleuca | Cuban Martin.
Progne dominicensis | Caribbean Martin.
Hirundo rustica | Barn Swallow.
Delichon urbicum | Common House-Martin.
Petrochelidon pyrrhonota | Cliff Swallow.
Petrochelidon fulva | Cave Swallow.
(L) Family Aegithalidae
Psaltriparus minimus | Bushtit.
(M) Family Phylloscopidae
Phylloscopus trochilus | Willow Warbler.
Phylloscopus collybita | Common Chiffchaff.
Phylloscopus sibilatrix | Wood Warbler.
Phylloscopus fuscatus | Dusky Warbler.
Phylloscopus proregulus | Pallas's Leaf Warbler.
Phylloscopus inornatus | Yellow-browed Warbler.
Phylloscopus borealis | Arctic Warbler.
Phylloscopus examinandus | Kamchatka Leaf Warbler.
(N) Family Sylviidae
Sylvia curruca | Lesser Whitethroat.
Chamaea fasciata | Wrentit.
(O) Family Regulidae
Corthylio calendula | Ruby-crowned Kinglet.
Regulus satrapa | Golden-crowned Kinglet.
(P) Family Bombycillidae
Bombycilla garrulus | Bohemian Waxwing.
Bombycilla cedrorum | Cedar Waxwing.
(Q) Family Ptiliogonatidae
Ptiliogonys cinereus | Gray Silky-flycatcher.
Phainopepla nitens | Phainopepla.
(R) Family Sittidae
Subfamily Sittinae
Sitta canadensis | Red-breasted Nuthatch.
Sitta carolinensis | White-breasted Nuthatch.
Sitta pygmaea | Pygmy Nuthatch.
Sitta pusilla | Brown-headed Nuthatch.
(S) Family Certhiidae
Subfamily Certhiinae
Certhia americana | Brown Creeper.
(T) Family Polioptilidae
Polioptila caerulea | Blue-Gray Gnatcatcher.
Polioptila melanura | Black-tailed Gnatcatcher.
Polioptila californica | California Gnatcatcher.
Polioptila nigriceps | Black-capped Gnatcatcher.
(U) Family Troglodytidae
Salpinctes obsoletus | Rock Wren.
Catherpes mexicanus | Canyon Wren.
Thryophilus sinaloa | Sinaloa Wren.
Campylorhynchus brunneicapillus | Cactus Wren.
Thryomanes bewickii | Bewick's Wren.
Thryothorus ludovicianus | Carolina Wren.
Troglodytes aedon | House Wren.
Troglodytes pacificus | Pacific Wren.
Troglodytes hiemalis | Winter Wren.
Cistothorus stellaris | Sedge Wren.
Cistothorus palustris | Marsh Wren.
(V) Family Mimidae
Melanotis caerulescens | Blue Mockingbird.
Melanoptila glabrirostris | Black Catbird.
Dumetella carolinensis | Gray Catbird.
Margarops fuscatus | Pearly-eyed Thrasher.
Toxostoma curvirostre | Curve-billed Thrasher.
Toxostoma rufum | Brown Thrasher.
Toxostoma longirostre | Long-billed Thrasher.
Toxostoma bendirei | Bendire's Thrasher.
Toxostoma redivivum | California Thrasher.
Toxostoma lecontei | LeConte's Thrasher.
Toxostoma crissale | Crissal Thrasher.
Oreoscoptes montanus | Sage Thrasher.
Mimus gundlachii | Bahama Mockingbird.
Mimus polyglottos | Northern Mockingbird.
(W) Family Sturnidae
Agropsar philippensis | Chestnut-cheeked Starling.
Spodiopsar cineraceus | White-cheeked Starling.
(X) Family Cinclidae
Cinclus mexicanus | American Dipper.
(Y) Family Turdidae
Sialia sialis | Eastern Bluebird.
Sialia mexicana | Western Bluebird.
Sialia currucoides | Mountain Bluebird.
Myadestes townsendi | Townsend's Solitaire.
Myadestes occidentalis | Brown-backed Solitaire.
Myadestes myadestinus | Kāma'o.
Myadestes lanaiensis | Oloma'o.
Myadestes obscurus | `Ōma'o.
Myadestes palmeri | Puaiohi.
Catharus aurantiirostris | Orange-billed Nightingale-Thrush.
Catharus mexicanus | Black-headed Nightingale-Thrush.
Catharus fuscescens | Veery.
Catharus minimus | Gray-cheeked Thrush.
Catharus bicknelli | Bicknell's Thrush.
Catharus ustulatus | Swainson's Thrush.
Catharus guttatus | Hermit Thrush.
Hylocichla mustelina | Wood Thrush.
Turdus obscurus | Eyebrowed Thrush.
Turdus eunomus | Dusky Thrush.
Turdus naumanni | Naumann's Thrush.
Turdus pilaris | Fieldfare.
Turdus iliacus | Redwing.
Turdus grayi | Clay-colored Thrush.
Turdus assimilis | White-throated Thrush.
Turdus rufopalliatus | Rufous-backed Robin.
Turdus migratorius | American Robin.
Turdus plumbeus | Red-legged Thrush.
Ixoreus naevius | Varied Thrush.
Ridgwayia pinicola | Aztec Thrush.
(Z) Family Muscicapidae
Muscicapa griseisticta | Gray-streaked Flycatcher.
Muscicapa dauurica | Asian Brown Flycatcher.
Muscicapa striata | Spotted Flycatcher.
Muscicapa sibirica | Dark-sided Flycatcher.
Erithacus rubecula | European Robin.
Larvivora cyane | Siberian Blue Robin.
Larvivora sibilans | Rufous-tailed Robin.
Cyanecula svecica | Bluethroat.
Calliope calliope | Siberian Rubythroat.
Tarsiger cyanurus | Red-flanked Bluetail.
Ficedula narcissina | Narcissus Flycatcher.
Ficedula mugimaki | Mugimaki Flycatcher.
Ficedula albicilla | Taiga Flycatcher.
Phoenicurus phoenicurus | Common Redstart.
Saxicola maurus | Asian Stonechat.
Oenanthe oenanthe | Northern Wheatear.
Oenanthe pleschanka | Pied Wheatear.
Monticola solitarius | Blue Rock-Thrush.
(AA) Family Peucedramidae
Peucedramus taeniatus | Olive Warbler.
(BB) Family Prunellidae
Prunella montanella | Siberian Accentor.
(CC) Family Motacillidae
Motacilla tschutschensis | Eastern Yellow Wagtail.
Motacilla citreola | Citrine Wagtail.
Motacilla cinerea | Gray Wagtail.
Motacilla alba | White Wagtail.
Anthus trivialis | Tree Pipit.
Anthus hodgsoni | Olive-backed Pipit.
Anthus gustavi | Pechora Pipit.
Anthus cervinus | Red-throated Pipit.
Anthus rubescens | American Pipit.
Anthus spragueii | Sprague's Pipit.
(DD) Family Fringillidae
(1) Subfamily Fringillinae
Fringilla coelebs | Common Chaffinch.
Fringilla montifringilla | Brambling.
(2) Subfamily Euphoniinae
Chlorophonia musica | Antillean Euphonia.
(3) Subfamily Carduelinae
Coccothraustes vespertinus | Evening Grosbeak.
Coccothraustes coccothraustes | Hawfinch.
Carpodacus erythrinus | Common Rosefinch.
Carpodacus roseus | Pallas's Rosefinch.
Melamprosops phaeosoma | Po'ouli.
Oreomystis bairdi | 'Akikiki.
Paroreomyza maculata | O'ahu 'Alauahio.
Paroreomyza flammea | Kākāwahie.
Paroreomyza montana | Maui 'Alauahio.
Loxioides bailleui | Palila.
Telespiza cantans | Laysan Finch.
Telespiza ultima | Nihoa Finch.
Palmeria dolei | 'Akohekohe.
Himatione fraithii | Laysan Honeycreeper.
Himatione sanguinea | 'Apapane.
Drepanis coccinea | 'I'iwi.
Psittirostra psittacea | 'Ō'ū.
Pseudonestor xanthophrys | Maui Parrotbill.
Hemignathus hanapepe | Kauai Nukupu'u.
Hemignathus lucidus | O'ahu Nukupu'u.
Hemignathus affinis | Maui Nukupu'u.
Hemignathus wilsoni | 'Akiapola'au.
Akialoa stejnegeri | Kauai 'Akialoa.
Akialoa ellisiana | O'ahu 'Akialoa.
Akialoa lanaiensis | Maui Nui 'Akialoa.
Magumma parva | 'Anianiau.
Chlorodrepanis virens | Hawaii 'Amakihi.
Chlorodrepanis flava | O'ahu 'Amakihi.
Chlorodrepanis stejnegeri | Kaua'i 'Amakihi.
Loxops mana | Hawaii Creeper.
Loxops caeruleirostris | 'Akeke'e.
Loxops wolstenholmei | O'ahu 'Akepa.
Loxops ochraceus | Maui 'Akepa.
Loxops coccineus | Hawaii 'Akepa.
Pinicola enucleator | Pine Grosbeak.
Pyrrhula pyrrhula | Eurasian Bullfinch.
Leucosticte arctoa | Asian Rosy-Finch.
Leucosticte tephrocotis | Gray-crowned Rosy-Finch.
Leucosticte atrata | Black Rosy-Finch.
Leucosticte australis | Brown-capped Rosy-Finch.
Haemorhous mexicanus | House Finch.
Haemorhous purpureus | Purple Finch.
Haemorhous cassinii | Cassin's Finch.
Chloris sinica | Oriental Greenfinch.
Acanthis flammea | Common Redpoll.
Acanthis hornemanni | Hoary Redpoll.
Loxia curvirostra | Red Crossbill.
Loxia sinesciuris | Cassia Crossbill.
Loxia leucoptera | White-winged Crossbill.
Spinus spinus | Eurasian Siskin.
Spinus pinus | Pine Siskin.
Spinus psaltria | Lesser Goldfinch.
Spinus lawrencei | Lawrence's Goldfinch.
Spinus tristis | American Goldfinch.
(EE) Family Calcariidae
Calcarius lapponicus | Lapland Longspur.
Calcarius ornatus | Chestnut-collared Longspur.
Calcarius pictus | Smith's Longspur.
Rhynchophanes mccownii | Thick-billed Longspur.
Plectrophenax nivalis | Snow Bunting.
Plectrophenax hyperboreus | McKay's Bunting.
(FF) Family Emberizidae
Emberiza leucocephalos | Pine Bunting.
Emberiza chrysophrys | Yellow-browed Bunting.
Emberiza pusilla | Little Bunting.
Emberiza rustica | Rustic Bunting.
Emberiza elegans | Yellow-throated Bunting.
Emberiza aureola | Yellow-breasted Bunting.
Emberiza variabilis | Gray Bunting.
Emberiza pallasi | Pallas's Bunting.
Emberiza schoeniclus | Reed Bunting.
(GG) Family Passerellidae
Peucaea carpalis | Rufous-winged Sparrow.
Peucaea botterii | Botteri's Sparrow.
Peucaea cassinii | Cassin's Sparrow.
Peucaea aestivalis | Bachman's Sparrow.
Ammodramus savannarum | Grasshopper Sparrow.
Arremonops rufivirgatus | Olive Sparrow.
Amphispizopsis quinquestriata | Five-striped Sparrow.
Amphispiza bilineata | Black-throated Sparrow.
Chondestes grammacus | Lark Sparrow.
Calamospiza melanocorys | Lark Bunting.
Spizella passerina | Chipping Sparrow.
Spizella pallida | Clay-colored Sparrow.
Spizella atrogularis | Black-chinned Sparrow.
Spizella pusilla | Field Sparrow.
Spizella breweri | Brewer's Sparrow.
Spizella wortheni | Worthen's Sparrow.
Passerella iliaca | Fox Sparrow.
Spizelloides arborea | American Tree Sparrow.
Junco hyemalis | Dark-eyed Junco.
Junco phaeonotus | Yellow-eyed Junco.
Zonotrichia leucophrys | White-crowned Sparrow.
Zonotrichia atricapilla | Golden-crowned Sparrow.
Zonotrichia querula | Harris's Sparrow.
Zonotrichia albicollis | White-throated Sparrow.
Artemisiospiza nevadensis | Sagebrush Sparrow.
Artemisiospiza belli | Bell's Sparrow.
Pooecetes gramineus | Vesper Sparrow.
Ammospiza leconteii | LeConte's Sparrow.
Ammospiza maritima | Seaside Sparrow.
Ammospiza nelsoni | Nelson's Sparrow.
Ammospiza caudacuta | Saltmarsh Sparrow.
Centronyx bairdii | Baird's Sparrow.
Centronyx henslowii | Henslow's Sparrow.
Passerculus sandwichensis | Savannah Sparrow.
Melospiza melodia | Song Sparrow.
Melospiza lincolnii | Lincoln's Sparrow.
Melospiza georgiana | Swamp Sparrow.
Melozone fusca | Canyon Towhee.
Melozone aberti | Abert's Towhee.
Melozone crissalis | California Towhee.
Aimophila ruficeps | Rufous-crowned Sparrow.
Pipilo chlorurus | Green-tailed Towhee.
Pipilo maculatus | Spotted Towhee.
Pipilo erythrophthalmus | Eastern Towhee.
(HH) Family Nesospingidae
Nesospingus speculiferus | Puerto Rican Tanager.
(II) Family Spindalidae
Spindalis zena | Western Spindalis.
Spindalis portoricensis | Puerto Rican Spindalis.
(JJ) Family Icteridae
Icteria virens | Yellow-breasted Chat.
(1) Subfamily Xanthocephalinae
Xanthocephalus xanthocephalus | Yellow-headed Blackbird.
(2) Subfamily Dolichonychinae
Dolichonyx oryzivorus | Bobolink.
(3) Subfamily Sturnellinae
Sturnella lilianae | Chihuahuan Meadowlark.
Sturnella magna | Eastern Meadowlark.
Sturnella neglecta | Western Meadowlark.
(4) Subfamily Icterinae
Icterus portoricensis | Puerto Rican Oriole.
Icterus wagleri | Black-vented Oriole.
Icterus spurius | Orchard Oriole.
Icterus cucullatus | Hooded Oriole.
Icterus pustulatus | Streak-backed Oriole.
Icterus bullockii | Bullock's Oriole.
Icterus gularis | Altamira Oriole.
Icterus graduacauda | Audubon's Oriole.
Icterus galbula | Baltimore Oriole.
Icterus abeillei | Black-backed Oriole.
Icterus parisorum | Scott's Oriole.
(5) Subfamily Agelaiinae
Agelaius phoeniceus | Red-winged Blackbird.
Agelaius tricolor | Tricolored Blackbird.
Agelaius humeralis | Tawny-shouldered Blackbird.
Agelaius xanthomus | Yellow-shouldered Blackbird.
Molothrus bonariensis | Shiny Cowbird.
Molothrus aeneus | Bronzed Cowbird.
Molothrus ater | Brown-headed Cowbird.
Euphagus carolinus | Rusty Blackbird.
Euphagus cyanocephalus | Brewer's Blackbird.
Quiscalus quiscula | Common Grackle.
Quiscalus major | Boat-tailed Grackle.
Quiscalus mexicanus | Great-tailed Grackle.
Quiscalus niger | Greater Antillean Grackle.
(KK) Family Parulidae
Seiurus aurocapilla | Ovenbird.
Helmitheros vermivorum | Worm-eating Warbler.
Parkesia motacilla | Louisiana Waterthrush.
Parkesia noveboracensis | Northern Waterthrush.
Vermivora bachmanii | Bachman's Warbler.
Vermivora chrysoptera | Golden-winged Warbler.
Vermivora cyanoptera | Blue-winged Warbler.
Mniotilta varia | Black-and-white Warbler.
Protonotaria citrea | Prothonotary Warbler.
Limnothlypis swainsonii | Swainson's Warbler.
Oreothlypis superciliosa | Crescent-chested Warbler.
Leiothlypis peregrina | Tennessee Warbler.
Leiothlypis celata | Orange-crowned Warbler.
Leiothlypis crissalis | Colima Warbler.
Leiothlypis luciae | Lucy's Warbler.
Leiothlypis ruficapilla | Nashville Warbler.
Leiothlypis virginiae | Virginia's Warbler.
Oporornis agilis | Connecticut Warbler.
Geothlypis poliocephala | Gray-crowned Yellowthroat.
Geothlypis tolmiei | MacGillivray's Warbler.
Geothlypis philadelphia | Mourning Warbler.
Geothlypis formosa | Kentucky Warbler.
Geothlypis trichas | Common Yellowthroat.
Setophaga angelae | Elfin-woods Warbler.
Setophaga citrina | Hooded Warbler.
Setophaga ruticilla | American Redstart.
Setophaga kirtlandii | Kirtland's Warbler.
Setophaga tigrina | Cape May Warbler.
Setophaga cerulea | Cerulean Warbler.
Setophaga americana | Northern Parula.
Setophaga pitiayumi | Tropical Parula.
Setophaga magnolia | Magnolia Warbler.
Setophaga castanea | Bay-breasted Warbler.
Setophaga fusca | Blackburnian Warbler.
Setophaga petechia | Yellow Warbler.
Setophaga pensylvanica | Chestnut-sided Warbler.
Setophaga striata | Blackpoll Warbler.
Setophaga caerulescens | Black-throated Blue Warbler.
Setophaga palmarum | Palm Warbler.
Setophaga pinus | Pine Warbler.
Setophaga coronata | Yellow-rumped Warbler.
Setophaga dominica | Yellow-throated Warbler.
Setophaga discolor | Prairie Warbler.
Setophaga adelaidae | Adelaide's Warbler.
Setophaga graciae | Grace's Warbler.
Setophaga nigrescens | Black-throated Gray Warbler.
Setophaga townsendi | Townsend's Warbler.
Setophaga occidentalis | Hermit Warbler.
Setophaga chrysoparia | Golden-cheeked Warbler.
Setophaga virens | Black-throated Green Warbler.
Basileuterus lachrymosus | Fan-tailed Warbler.
Basileuterus rufifrons | Rufous-capped Warbler.
Basileuterus culicivorus | Golden-crowned Warbler.
Cardellina canadensis | Canada Warbler.
Cardellina pusilla | Wilson's Warbler.
Cardellina rubrifrons | Red-faced Warbler.
Myioborus pictus | Painted Redstart.
Myioborus miniatus | Slate-throated Redstart.
(LL) Family Cardinalidae
Piranga flava | Hepatic Tanager.
Piranga rubra | Summer Tanager.
Piranga olivacea | Scarlet Tanager.
Piranga ludoviciana | Western Tanager.
Piranga bidentata | Flame-colored Tanager.
Rhodothraupis celaeno | Crimson-collared Grosbeak.
Cardinalis cardinalis | Northern Cardinal.
Cardinalis sinuatus | Pyrrhuloxia.
Pheucticus chrysopeplus | Yellow Grosbeak.
Pheucticus ludovicianus | Rose-breasted Grosbeak.
Pheucticus melanocephalus | Black-headed Grosbeak.
Cyanocompsa parellina | Blue Bunting.
Passerina caerulea | Blue Grosbeak.
Passerina amoena | Lazuli Bunting.
Passerina cyanea | Indigo Bunting.
Passerina versicolor | Varied Bunting.
Passerina ciris | Painted Bunting.
Spiza americana | Dickcissel.
(MM) Family Thraupidae
(1) Subfamily Dacninae
Cyanerpes cyaneus | Red-legged Honeycreeper.
(2) Subfamily Coerebinae
Coereba flaveola | Bananaquit.
Tiaris olivaceus | Yellow-faced Grassquit.
Melopyrrha portoricensis | Puerto Rican Bullfinch.
Melanospiza bicolor | Black-faced Grassquit.
(3) Subfamily Sporophilinae
Sporophila morelleti | Morelet's Seedeater.

PART 17—ENDANGERED AND THREATENED WILDLIFE AND PLANTS

3. The authority citation for part 17 continues to read as follows:

Authority: 16 U.S.C. 1361-1407; 1531-1544; and 4201-4245, unless otherwise noted.

4. Amend § 17.11, in paragraph (h), the List of Endangered and Threatened Wildlife, under BIRDS, by:

a. Revising the entries for “Caracara, crested, (Audubon's) [FL DPS]”, “Crane, Mississippi sandhill”, “Nightjar, Puerto Rican”, and “Pigeon, Puerto Rican plain”;

b. Removing the entries for “Rail, California clapper” and “Rail, light-footed clapper”;

c. Adding, in alphabetical order, entries for “Rail, California Ridgway's” and “Rail, light-footed Ridgway's”; and

d. Revising the entries for “Sparrow, Cape Sable seaside”, “Tern, California least”, and “Towhee, Inyo California”.

The revisions and additions read as follows:

§ 17.11 Endangered and threatened wildlife.

* * * * *

(h) * * *

Common name | Scientific name | Where listed | Status | Listing citations and applicable rules
* * * * * * *
BIRDS
* * * * * * *
Caracara, crested, (Audubon's) [FL DPS] | Caracara plancus audubonii | U.S.A. (FL) | T | 52 FR 25229, 7/6/1987.
* * * * * * *
Crane, Mississippi sandhill | Antigone canadensis pulla | Wherever found | E | 38 FR 14678, 6/4/1973; 50 CFR 17.95(b).CH
* * * * * * *
Nightjar, Puerto Rican | Antrostomus noctitherus | Wherever found | E | 38 FR 14678, 6/4/1973.
* * * * * * *
Pigeon, Puerto Rican plain | Patagioenas inornata wetmorei | Wherever found | E | 35 FR 16047, 10/13/1970.
* * * * * * *
Rail, California Ridgway's | Rallus obsoletus obsoletus | Wherever found | E | 35 FR 16047, 10/13/1970.
* * * * * * *
Rail, light-footed Ridgway's | Rallus obsoletus levipes | U.S.A. only | E | 34 FR 5034, 3/8/1969; 35 FR 16047, 10/13/1970.
* * * * * * *
Sparrow, Cape Sable seaside | Ammospiza maritima mirabilis | Wherever found | E | 32 FR 4001, 3/11/1967; 50 CFR 17.95(b).CH
* * * * * * *
Tern, California least | Sternula antillarum browni | Wherever found | E | 35 FR 16047, 10/13/1970; 35 FR 8491, 6/2/1970.
* * * * * * *
Towhee, Inyo California | Melozone crissalis eremophilus | Wherever found | T | 52 FR 28780, 8/3/1987; 50 CFR 17.95(b).CH
* * * * * * *

5. Amend § 17.95, in paragraph (b), by

a. Revising the headings for “Mississippi Sandhill Crane (Grus canadensis pulla)” and “Cape Sable Seaside Sparrow (Ammodramus maritimus mirabilis)”; and

b. Removing the heading “Inyo Brown Towhee (Pipilo fuscus eremophilus)” and adding in its place a heading for “Inyo California Towhee (Melozone crissalis eremophilus)”.

The revisions and addition read as follows:

§ 17.95 Critical habitat—fish and wildlife.

(b) * * *

MISSISSIPPI SANDHILL CRANE (Antigone canadensis pulla)

* * * * *

CAPE SABLE SEASIDE SPARROW (Ammospiza maritima mirabilis)

* * * * *

INYO CALIFORNIA TOWHEE (Melozone crissalis eremophilus)

* * * * *

PART 21—MIGRATORY BIRD PERMITS

6. The authority citation for part 21 continues to read as follows:

Authority: 16 U.S.C. 703-712.

§ 21.123 [Amended]

7. Amend § 21.123, in the introductory text of paragraph (a), by removing the words “(Phalacrocorax auritus)” and adding in their place the words “(Nannopterum auritum)”.

Shannon A. Estenoz,
Assistant Secretary for Fish and Wildlife and Parks.

[FR Doc. 2023-15551 Filed 7-28-23; 8:45 am]

BILLING CODE 4333-15-P